DEPARTMENT OF COMMERCE

National Oceanic and Atmospheric Administration

50 CFR Part 679

[Docket No. 141021887-5172-02]

RIN 0648-XD587

Fisheries of the Exclusive Economic Zone Off Alaska; Bering Sea and Aleutian Islands; 2015 and 2016 Harvest Specifications for Groundfish

AGENCY: National Marine Fisheries Service (NMFS), National Oceanic and Atmospheric Administration (NOAA), Commerce.

ACTION: Final rule; closures.

SUMMARY: NMFS announces final 2015 and 2016 harvest specifications and prohibited species catch allowances for the groundfish fishery of the Bering Sea and Aleutian Islands management area (BSAI). This action is necessary to establish harvest limits for groundfish during the 2015 and 2016 fishing years, and to accomplish the goals and objectives of the Fishery Management Plan for Groundfish of the BSAI (FMP). The intended effect of this action is to conserve and manage the groundfish resources in the BSAI in accordance with the Magnuson-Stevens Fishery Conservation and Management Act (Magnuson-Stevens Act).

DATES: Effective from 1200 hrs, Alaska local time (A.l.t.), March 5, 2015, through 2400 hrs, A.l.t., December 31, 2016.

ADDRESSES: Electronic copies of the Alaska Groundfish Harvest Specifications Final Environmental Impact Statement (EIS), Record of Decision (ROD), Supplementary Information Report (SIR) to the EIS, and the Final Regulatory Flexibility Analysis (FRFA) prepared for this action are available from http://alaskafisheries.noaa.gov. The final 2014 Stock Assessment and Fishery Evaluation (SAFE) report for the groundfish resources of the BSAI, dated November 2014, as well as the SAFE reports for previous years, are available from the North Pacific Fishery Management Council (Council) at 605 West 4th Avenue, Suite 306, Anchorage, AK, 99510-2252, (phone) 907-271-2809, or from the Council's Web site at http://www.npfmc.org/.

FOR FURTHER INFORMATION CONTACT: Steve Whitney, 907-586-7228.

SUPPLEMENTARY INFORMATION: Federal regulations at 50 CFR part 679 implement the FMP and govern the groundfish fisheries in the BSAI. The Council prepared the FMP, and NMFS approved it under the Magnuson-Stevens Act. General regulations governing U.S. fisheries also appear at 50 CFR part 600.

The FMP and its implementing regulations require NMFS, after consultation with the Council, to specify the total allowable catch (TAC) for each target species category. The sum TAC for all groundfish species must be within the optimum yield (OY) range of 1.4 million to 2.0 million metric tons (mt) (see § 679.20(a)(1)(i)). This final rule specifies the TAC at 2.0 million mt for both 2015 and 2016. NMFS also must specify apportionments of TAC, prohibited species catch (PSC) allowances, and prohibited species quota (PSQ) reserves established by § 679.21; seasonal allowances of pollock, Pacific cod, and Atka mackerel TAC; Amendment 80 allocations; and Community Development Quota (CDQ) reserve amounts established by § 679.20(b)(1)(ii). The final harvest specifications set forth in Tables 1 through 22 of this action satisfy these requirements.

Section 679.20(c)(3)(i) further requires NMFS to consider public comment on the proposed annual TACs (and apportionments thereof) and PSC allowances, and to publish final harvest specifications in the Federal Register. The proposed 2015 and 2016 harvest specifications and PSC allowances for the groundfish fishery of the BSAI were published in the Federal Register on December 8, 2014 (79 FR 72571). Comments were invited and accepted through January 7, 2015. NMFS received five letters with 13 comments on the proposed harvest specifications. These comments are summarized and responded to in the “Response to Comments” section of this rule. NMFS consulted with the Council on the final 2015 and 2016 harvest specifications during the December 2014 Council meeting in Anchorage, AK. After considering public comments, as well as biological and economic data that were available at the Council's December meeting, NMFS is implementing the final 2015 and 2016 harvest specifications as recommended by the Council.

Acceptable Biological Catch (ABC) and TAC Harvest Specifications

The final ABC levels for Alaska groundfish are based on the best available biological and socioeconomic information, including projected biomass trends, information on assumed distribution of stock biomass, and revised technical methods used to calculate stock biomass. In general, the development of ABCs and overfishing levels (OFLs) involves sophisticated statistical analyses of fish populations. The FMP specifies a series of six tiers to define OFL and ABC amounts based on the level of reliable information available to fishery scientists. Tier 1 represents the highest level of information quality available while Tier 6 represents the lowest.

In December 2014, the Scientific and Statistical Committee (SSC), Advisory Panel (AP), and Council reviewed current biological and harvest information about the condition of the BSAI groundfish stocks. The Council's Plan Team compiled and presented this information in the final 2014 SAFE report for the BSAI groundfish fisheries, dated November 2014 (see ADDRESSES). The SAFE report contains a review of the latest scientific analyses and estimates of each species' biomass and other biological parameters, as well as summaries of the available information on the BSAI ecosystem and the economic condition of groundfish fisheries off Alaska. NMFS notified the public and asked for review of the SAFE report in the notice of proposed harvest specifications. From these data and analyses, the Plan Team recommended an OFL and ABC for each species or species category at the November 2014 Plan Team meeting.

In December 2014, the SSC, AP, and Council reviewed the Plan Team's recommendations. The final TAC recommendations were based on the ABCs as adjusted for other biological and socioeconomic considerations, including maintaining the sum of the TACs within the required OY range of 1.4 million to 2.0 million mt. As required by annual catch limit rules for all fisheries (74 FR 3178, January 16, 2009), none of the Council's recommended TACs for 2015 or 2016 exceeds the final 2015 or 2016 ABCs for any species category. The Secretary of Commerce approves the final 2015 and 2016 harvest specifications as recommended by the Council. NMFS finds that the Council's recommended OFLs, ABCs, and TACs are consistent with the preferred harvest strategy and the biological condition of groundfish stocks as described in the 2014 SAFE report that was approved by the Council.

Other Actions Potentially Affecting the 2015 and 2016 Harvest Specifications

A final rule implementing Steller sea lion protection measures in the BSAI became effective on December 26, 2014 (79 FR 70286, November 25, 2014). These regulations insure that the western distinct population segment of Steller sea lions' continued existence is not jeopardized or its critical habitat is not destroyed or adversely modified. These regulations alter areas open for directed fishing in the Aleutian Islands subarea of the BSAI. They also alter the harvest limitation in these harvest specifications for pollock, Atka mackerel, and Pacific cod primarily in the Aleutian Islands subarea of the BSAI. The proposed harvest specifications notified the public of possible changes to the harvest specification limits. Changes to the pollock, Atka mackerel, and Pacific cod harvest specifications that are required by the rule implementing the protection measures are described in the section for each of these target species.

For 2015, the Board of Fisheries (BOF) for the State of Alaska (State) established a Pacific cod guideline harvest level (GHL) in State waters between 164 and 167 degrees west longitude in the Bering Sea (BS) subarea. The Pacific cod GHL in this area is equal to 3 percent of the sum of the Pacific cod ABCs for the Aleutian Islands (AI) and the BS. To account for the State GHL fishery in 2015 and 2016, the Council reduced the final BS subarea TAC by 3 percent of the combined BS and AI subarea ABCs. The combined BS subarea TAC and GHL (248,178 mt) are less than the final BS subarea ABC.

For 2015, the BOF for the State established a Pacific cod GHL in State waters in the AI subarea. The Pacific cod GHL in this area is equal to 3 percent of the sum of the Pacific cod ABCs for the AI and the BS. To account for the State GHL fishery in 2015 and 2016, the Council reduced the final AI subarea TAC by 3 percent of the combined BS and AI subarea ABCs. The combined AI TAC and GHL (17,600 mt) equal the final AI subarea ABC.

Changes From the Proposed 2015 and 2016 Harvest Specifications for the BSAI

In October 2014, the Council proposed its recommendations for the 2015 and 2016 harvest specifications (which were proposed by NMFS, 79 FR 72571, December 8, 2014), based largely on information contained in the 2013 SAFE report for the BSAI groundfish fisheries. Through the proposed harvest specifications, NMFS notified the public that these harvest specifications could change, as the Council would consider information contained in the final 2014 SAFE report, recommendations from the Plan Team, SSC, and AP committees, and public testimony when making its recommendations for final harvest specifications at the December Council meeting. NMFS further notified the public that, as required by the FMP and its implementing regulations, the sum of the TACs must be within the OY range of 1.4 million and 2.0 million mt.

Information contained in the 2014 SAFE reports indicates biomass changes for several groundfish species from the 2013 SAFE reports. At the December 2014 Council meeting, the SSC recommended the 2015 and 2016 ABCs for many species based on the best and most recent information contained in the 2014 SAFE reports. This recommendation resulted in an ABC sum total for all BSAI groundfish species in excess of 2 million mt for both 2015 and 2016. Based on the SSC ABC recommendations and the 2014 SAFE reports, the Council recommends increasing Bering Sea pollock by 52,000 mt. In terms of percentage, the largest increases in TACs were for Central Aleutian district (CAI) Atka mackerel and Western Aleutian district (WAI) Atka mackerel, octopuses, and Aleutian Island Pacific cod. The Atka mackerel fisheries are valuable and likely to be harvested to the full TAC available. The Council increased these TACs due to changes in Steller sea lion conservation measures. The octopuses increase was due to anticipated higher catches in 2015 and 2016, and the increase in Aleutian Islands Pacific cod was due to larger biomass estimates. Conversely, the largest decrease in TAC in terms of tonnage is 38,000 mt for yellowfin sole and 15,750 for rock sole. In terms of percentage change from the proposed TACs, Aleutian Island Greenland turbot and shortraker rockfish had the largest decreases in TAC. The Council decreased TACs for these species because they were not fully harvested in 2014. The changes to TAC between the proposed and final harvest specifications are based on the most recent scientific and economic information and are consistent with the FMP, regulatory obligations, and harvest strategy as described in the proposed harvest specifications. These changes are compared in Table 1A. Table 1 lists the Council's recommended final 2015 OFL, ABC, TAC, initial TAC (ITAC), and CDQ reserve amounts of the BSAI groundfish; and Table 2 lists the Council's recommended final 2016 OFL, ABC, TAC, initial TAC, and CDQ reserve amounts of the BSAI groundfish. NMFS concurs in these recommendations. The final 2015 and 2016 TAC recommendations for the BSAI are within the OY range established for the BSAI and do not exceed the ABC for any species or species group. The apportionment of TAC amounts among fisheries and seasons is discussed below.

Table 1—Final 2015 Overfishing Level (OFL), Acceptable Biological Catch (ABC), Total Allowable Catch (TAC), Initial Tac (ITAC), and CDQ Reserve Allocation of Groundfish in the BSAI ¹
[Amounts are in metric tons]
Species | Area | 2015: OFL | 2015: ABC | 2015: TAC | 2015: ITAC ² | 2015: CDQ ³
Pollock ⁴ | BS | 3,330,000 | 1,637,000 | 1,310,000 | 1,179,000 | 131,000
| AI | 36,005 | 29,659 | 19,000 | 17,100 | 1,900
| Bogoslof | 21,200 | 15,900 | 100 | 100 | 0
Pacific cod ⁵ | BS | 346,000 | 255,000 | 240,000 | 214,320 | 25,680
| AI | 23,400 | 17,600 | 9,422 | 8,414 | 1,008
Sablefish | BS | 1,575 | 1,333 | 1,333 | 567 | 183
| AI | 2,128 | 1,802 | 1,802 | 383 | 304
Yellowfin sole | BSAI | 266,400 | 248,800 | 149,000 | 133,057 | 15,943
Greenland turbot | BSAI | 3,903 | 3,172 | 2,648 | 2,251 | n/a
| BS | n/a | 2,448 | 2,448 | 2,081 | 262
| AI | n/a | 724 | 200 | 170 | 0
Arrowtooth flounder | BSAI | 93,856 | 80,547 | 22,000 | 18,700 | 2,354
Kamchatka flounder | BSAI | 10,500 | 9,000 | 6,500 | 5,525 | 0
Rock sole | BSAI | 187,600 | 181,700 | 69,250 | 61,840 | 7,410
Flathead sole ⁶ | BSAI | 79,419 | 66,130 | 24,250 | 21,655 | 2,595
Alaska plaice | BSAI | 54,000 | 44,900 | 18,500 | 15,725 | 0
Other flatfish ⁷ | BSAI | 17,700 | 13,250 | 3,620 | 3,077 | 0
Pacific ocean perch | BSAI | 42,558 | 34,988 | 32,021 | 28,250 | n/a
| BS | n/a | 8,771 | 8,021 | 6,818 | 0
| EAI | n/a | 8,312 | 8,000 | 7,144 | 856
| CAI | n/a | 7,723 | 7,000 | 6,251 | 749
| WAI | n/a | 10,182 | 9,000 | 8,037 | 963
Northern rockfish | BSAI | 15,337 | 12,488 | 3,250 | 2,763 | 0
Rougheye rockfish ⁸ | BSAI | 560 | 453 | 349 | 297 | 0
| BS/EAI | n/a | 149 | 149 | 127 | 0
| CAI/WAI | n/a | 304 | 200 | 170 | 0
Shortraker rockfish | BSAI | 690 | 518 | 250 | 213 | 0
Other rockfish ⁹ | BSAI | 1,667 | 1,250 | 880 | 748 | 0
| BS | n/a | 695 | 325 | 276 | 0
| AI | n/a | 555 | 555 | 472 | 0
Atka mackerel | BSAI | 125,297 | 106,000 | 54,500 | 48,669 | 5,832
| BS/EAI | n/a | 38,492 | 27,000 | 24,111 | 2,889
| CAI | n/a | 33,108 | 17,000 | 15,181 | 1,819
| WAI | n/a | 34,400 | 10,500 | 9,377 | 1,124
Skates | BSAI | 49,575 | 41,658 | 25,700 | 21,845 | 0
Sculpins | BSAI | 52,365 | 39,725 | 4,700 | 3,995 | 0
Sharks | BSAI | 1,363 | 1,022 | 125 | 106 | 0
Squids | BSAI | 2,624 | 1,970 | 400 | 340 | 0
Octopuses | BSAI | 3,452 | 2,589 | 400 | 340 | 0
Total | 4,769,174 | 2,848,454 | 2,000,000 | 1,789,278 | 197,038
¹ These amounts apply to the entire BSAI management area unless otherwise specified. With the exception of pollock, and for the purpose of these harvest specifications, the Bering Sea (BS) subarea includes the Bogoslof District.
² Except for pollock, the portion of the sablefish TAC allocated to hook-and-line and pot gear, and Amendment 80 species, 15 percent of each TAC is put into a reserve. The ITAC for these species is the remainder of the TAC after the subtraction of these reserves. For pollock and Amendment 80 species, ITAC is the non-CDQ allocation of TAC (see footnotes 3 and 5).
³ For the Amendment 80 species (Atka mackerel, flathead sole, rock sole, yellowfin sole, Pacific cod, and Aleutian Islands Pacific ocean perch), 10.7 percent of the TAC is reserved for use by CDQ participants (see §§ 679.20(b)(1)(ii)(C) and 679.31). Twenty percent of the sablefish TAC allocated to hook-and-line gear or pot gear, 7.5 percent of the sablefish TAC allocated to trawl gear, and 10.7 percent of the TACs for Bering Sea Greenland turbot and arrowtooth flounder are reserved for use by CDQ participants (see § 679.20(b)(1)(ii)(B) and (D)). Aleutian Islands Greenland turbot, “other flatfish,” Alaska plaice, Bering Sea Pacific ocean perch, northern rockfish, shortraker rockfish, rougheye rockfish, “other rockfish,” skates, sculpins, sharks, squids, and octopuses are not allocated to the CDQ program.
⁴ Under § 679.20(a)(5)(i)(A)(1), the annual BS subarea pollock TAC after subtracting first for the CDQ directed fishing allowance (10 percent) and second for the incidental catch allowance (4.0 percent), is further allocated by sector for a pollock directed fishery as follows: inshore—50 percent; catcher/processor—40 percent; and motherships—10 percent. Under § 679.20(a)(5)(iii)(B)(2)(i) and (ii), the annual Aleutian Islands subarea pollock TAC, after subtracting first for the CDQ directed fishing allowance (10 percent) and second for the incidental catch allowance (2,400 mt) is allocated to the Aleut Corporation for a pollock directed fishery.
⁵ The BS Pacific cod TAC is reduced by 3 percent from the combined BSAI ABC to account for the State of Alaska's (State) guideline harvest level in State waters of the Bering Sea subarea. The AI Pacific cod TAC is reduced by 3 percent from the combined BSAI ABC to account for the State guideline harvest level in State waters of the Aleutian Islands subarea.
⁶ “Flathead sole” includes Hippoglossoides elassodon (flathead sole) and Hippoglossoides robustus (Bering flounder).
⁷ “Other flatfish” includes all flatfish species, except for halibut (a prohibited species), flathead sole, Greenland turbot, rock sole, yellowfin sole, arrowtooth flounder, Kamchatka flounder, and Alaska plaice.
⁸ “Rougheye rockfish” includes Sebastes aleutianus (rougheye) and Sebastes melanostictus (blackspotted).
⁹ “Other rockfish” includes all Sebastes and Sebastolobus species except for Pacific ocean perch, northern rockfish, dark rockfish, shortraker rockfish, and rougheye rockfish.Note: Regulatory areas and districts are defined at § 679.2 (BS=Bering Sea subarea, AI=Aleutian Islands subarea, EAI=Eastern Aleutian district, CAI=Central Aleutian district, WAI=Western Aleutian district.)

Table 1A—Comparison of Final 2015 and 2016 With Proposed 2015 and 2016 Total Allowable Catch in the BSAI
[Amounts are in metric tons]
Species | Area ¹ | 2015 Final TAC | 2015 Proposed TAC | 2015 Difference from proposed | 2016 Final TAC | 2016 Proposed TAC | 2016 Difference from proposed
Pollock | BS | 1,310,000 | 1,258,000 | 52,000 | 1,310,000 | 1,258,000 | 52,000
| AI | 19,000 | 19,000 | 0 | 19,000 | 19,000 | 0
| Bogoslof | 100 | 75 | 25 | 100 | 75 | 25
Pacific cod | BS | 240,000 | 251,712 | −11,712 | 240,000 | 251,712 | −11,712
| AI | 9,422 | 6,487 | 2,935 | 9,422 | 6,487 | 2,935
Sablefish | BS | 1,333 | 1,210 | 123 | 1,211 | 1,210 | 1
| AI | 1,802 | 1,636 | 166 | 1,637 | 1,636 | 1
Yellowfin sole | BSAI | 149,000 | 187,000 | −38,000 | 149,000 | 187,000 | −38,000
Greenland turbot | BS | 2,448 | 2,478 | −30 | 2,448 | 2,478 | −30
| AI | 200 | 695 | −495 | 200 | 695 | −495
Arrowtooth flounder | BSAI | 22,000 | 25,000 | −3,000 | 22,000 | 25,000 | −3,000
Kamchatka flounder | BSAI | 6,500 | 7,300 | −800 | 6,500 | 7,300 | −800
Rock sole | BSAI | 69,250 | 85,000 | −15,750 | 69,250 | 85,000 | −15,750
Flathead sole | BSAI | 24,250 | 25,129 | −879 | 24,250 | 25,129 | −879
Alaska plaice | BSAI | 18,500 | 25,000 | −6,500 | 18,500 | 25,000 | −6,500
Other flatfish | BSAI | 3,620 | 3,000 | 620 | 3,620 | 3,000 | 620
Pacific ocean perch | BS | 8,021 | 7,340 | 681 | 8,021 | 7,340 | 681
| EAI | 8,000 | 8,833 | −833 | 7,970 | 8,833 | −863
| CAI | 7,000 | 6,299 | 701 | 7,000 | 6,299 | 701
| WAI | 9,000 | 9,169 | −169 | 9,000 | 9,169 | −169
Northern rockfish | BSAI | 3,250 | 3,000 | 250 | 3,250 | 3,000 | 250
Rougheye rockfish | BS/EAI | 149 | 201 | −52 | 149 | 201 | −52
| CAI/WAI | 200 | 277 | −77 | 200 | 277 | −77
Shortraker rockfish | BSAI | 250 | 370 | −120 | 250 | 370 | −120
Other rockfish | BS | 325 | 400 | −75 | 325 | 400 | −75
| AI | 555 | 473 | 82 | 555 | 473 | 82
Atka mackerel | EAI/BS | 27,000 | 21,769 | 5,231 | 27,317 | 21,769 | 5,548
| CAI | 17,000 | 9,722 | 7,278 | 17,000 | 9,722 | 7,278
| WAI | 10,500 | 1,000 | 9,500 | 10,500 | 1,000 | 9,500
Skates | BSAI | 25,700 | 26,000 | −300 | 25,700 | 26,000 | −300
Sculpins | BSAI | 4,700 | 5,750 | −1,050 | 4,700 | 5,750 | −1,050
Sharks | BSAI | 125 | 125 | 0 | 125 | 125 | 0
Squid | BSAI | 400 | 325 | 75 | 400 | 325 | 75
Octopuses | BSAI | 400 | 225 | 175 | 400 | 225 | 175
Total | BSAI | 2,000,000 | 2,000,000 | 0 | 2,000,000 | 2,000,000 | 0
¹ Bering Sea subarea (BS), Aleutian Islands subarea (AI), Bering Sea and Aleutian Islands management area (BSAI), Eastern Aleutian District (EAI), Central Aleutian District (CAI), and Western Aleutian District (WAI).

Table 2—Final 2016 Overfishing Level (OFL), Acceptable Biological Catch (ABC), Total Allowable Catch (TAC), Initial Tac (ITAC), and CDQ Reserve Allocation of Groundfish in the BSAI ¹
[Amounts are in metric tons]
Species | Area | 2016: OFL | 2016: ABC | 2016: TAC | 2016: ITAC ² | 2016: CDQ ³
Pollock ⁴ | BS | 3,490,000 | 1,554,000 | 1,310,000 | 1,179,000 | 131,000
| AI | 38,699 | 31,900 | 19,000 | 17,100 | 1,900
| Bogoslof | 21,200 | 15,900 | 100 | 100 | 0
Pacific cod ⁵ | BS | 389,000 | 255,000 | 240,000 | 214,320 | 25,680
| AI | 23,400 | 17,600 | 9,422 | 8,414 | 1,008
Sablefish | BS | 1,431 | 1,211 | 1,211 | 515 | 45
| AI | 1,934 | 1,637 | 1,637 | 348 | 31
Yellowfin sole | BSAI | 262,900 | 245,500 | 149,000 | 133,057 | 15,943
| BSAI | 6,453 | 5,248 | 2,648 | 2,251 | n/a
Greenland turbot | BS | n/a | 4,050 | 2,448 | 2,081 | 262
| AI | n/a | 1,198 | 200 | 170 | 0
Arrowtooth flounder | BSAI | 91,663 | 78,661 | 22,000 | 18,700 | 2,354
Kamchatka flounder | BSAI | 11,000 | 9,500 | 6,500 | 5,525 | 0
Rock sole | BSAI | 170,100 | 164,800 | 69,250 | 61,840 | 7,410
Flathead sole ⁶ | BSAI | 76,504 | 63,711 | 24,250 | 21,655 | 2,595
Alaska plaice | BSAI | 51,600 | 42,900 | 18,500 | 15,725 | 0
Other flatfish ⁷ | BSAI | 17,700 | 13,250 | 3,620 | 3,077 | 0
| BSAI | 40,809 | 33,550 | 31,991 | 28,223 | n/a
| BS | n/a | 8,411 | 8,021 | 6,818 | 0
Pacific ocean perch | EAI | n/a | 7,970 | 7,970 | 7,117 | 853
| CAI | n/a | 7,406 | 7,000 | 6,251 | 749
| WAI | n/a | 9,763 | 9,000 | 8,037 | 963
Northern rockfish | BSAI | 15,100 | 12,295 | 3,250 | 2,763 | 0
| BSAI | 688 | 555 | 349 | 297 | 0
Rougheye rockfish ⁸ | EBS/EAI | n/a | 178 | 149 | 127 | 0
| CAI/WAI | n/a | 377 | 200 | 170 | 0
Shortraker rockfish | BSAI | 690 | 518 | 250 | 213 | 0
| BSAI | 1,667 | 1,250 | 880 | 748 | 0
Other rockfish ⁹ | BS | n/a | 695 | 325 | 276 | 0
| AI | n/a | 555 | 555 | 472 | 0
| BSAI | 115,908 | 98,137 | 54,817 | 48,952 | 5,865
Atka mackerel | EAI/BS | n/a | 35,637 | 27,317 | 24,394 | 2,923
| CAI | n/a | 30,652 | 17,000 | 15,181 | 1,819
| WAI | n/a | 31,848 | 10,500 | 9,377 | 1,124
Skates | BSAI | 47,035 | 39,468 | 25,700 | 21,845 | 0
Sculpins | BSAI | 52,365 | 39,725 | 4,700 | 3,995 | 0
Sharks | BSAI | 1,363 | 1,022 | 125 | 106 | 0
Squids | BSAI | 2,624 | 1,970 | 400 | 340 | 0
Octopuses | BSAI | 3,452 | 2,589 | 400 | 340 | 0
Total |  | 4,935,285 | 2,731,897 | 2,000,000 | 1,789,447 | 196,658
¹ These amounts apply to the entire BSAI management area unless otherwise specified. With the exception of pollock, and for the purpose of these harvest specifications, the Bering Sea (BS) subarea includes the Bogoslof District.
² Except for pollock, the portion of the sablefish TAC allocated to hook-and-line and pot gear, and Amendment 80 species, 15 percent of each TAC is put into a reserve. The ITAC for these species is the remainder of the TAC after the subtraction of these reserves. For pollock and Amendment 80 species, ITAC is the non-CDQ allocation of TAC (see footnotes 3 and 5).
³ For the Amendment 80 species (Atka mackerel, flathead sole, rock sole, yellowfin sole, Pacific cod, and Aleutian Islands Pacific ocean perch), 10.7 percent of the TAC is reserved for use by CDQ participants (see §§ 679.20(b)(1)(ii)(C) and 679.31). Twenty percent of the sablefish TAC allocated to hook-and-line gear or pot gear, 7.5 percent of the sablefish TAC allocated to trawl gear, and 10.7 percent of the TACs for Bering Sea Greenland turbot and arrowtooth flounder are reserved for use by CDQ participants (see § 679.20(b)(1)(ii)(B) and (D)). Aleutian Islands Greenland turbot, “other flatfish,” Alaska plaice, Bering Sea Pacific ocean perch, northern rockfish, shortraker rockfish, rougheye rockfish, “other rockfish,” skates, sculpins, sharks, squids, and octopuses are not allocated to the CDQ program.
⁴ Under § 679.20(a)(5)(i)(A)(1), the annual BS subarea pollock TAC after subtracting first for the CDQ directed fishing allowance (10 percent) and second for the incidental catch allowance (4.0 percent), is further allocated by sector for a pollock directed fishery as follows: Inshore—50 percent; catcher/processor—40 percent; and motherships—10 percent. Under § 679.20(a)(5)(iii)(B)(2)(i) and (ii), the annual Aleutian Islands subarea pollock TAC, after subtracting first for the CDQ directed fishing allowance (10 percent) and second for the incidental catch allowance (2,400 mt) is allocated to the Aleut Corporation for a pollock directed fishery.
⁵ The BS Pacific cod TAC is reduced by 3 percent from the combined BSAI ABC to account for the State of Alaska's (State) guideline harvest level in State waters of the Bering Sea subarea. The AI Pacific cod TAC is reduced by 3 percent from the combined BSAI ABC to account for the State guideline harvest level in State waters of the Aleutian Islands subarea.
⁶ “Flathead sole” includes Hippoglossoides elassodon (flathead sole) and Hippoglossoides robustus (Bering flounder).
⁷ “Other flatfish” includes all flatfish species, except for halibut (a prohibited species), flathead sole, Greenland turbot, rock sole, yellowfin sole, arrowtooth flounder, Kamchatka flounder, and Alaska plaice.
⁸ “Rougheye rockfish” includes Sebastes aleutianus (rougheye) and Sebastes melanostictus (blackspotted).
⁹ “Other rockfish” includes all Sebastes and Sebastolobus species except for Pacific ocean perch, northern rockfish, dark rockfish, shortraker rockfish, and rougheye rockfish.
Note: Regulatory areas and districts are defined at § 679.2 (BS=Bering Sea subarea, AI=Aleutian Islands subarea, EAI=Eastern Aleutian district, CAI=Central Aleutian district, WAI=Western Aleutian district.)

Groundfish Reserves and the Incidental Catch Allowance (ICA) for Pollock, Atka Mackerel, Flathead Sole, Rock Sole, Yellowfin Sole, and Aleutian Islands Pacific Ocean Perch

Section 679.20(b)(1)(i) requires NMFS to reserve 15 percent of the TAC for each target species, except for pollock, hook-and-line and pot gear allocation of sablefish, and Amendment 80 species, in a non-specified reserve. Section 679.20(b)(1)(ii)(B) requires that NMFS allocate 20 percent of the hook-and-line and pot gear allocation of sablefish for the fixed-gear sablefish CDQ reserve. Section 679.20(b)(1)(ii)(D) requires that NMFS allocate 7.5 percent of the trawl gear allocations of sablefish and 10.7 percent of the Bering Sea Greenland turbot and arrowtooth flounder TACs to the respective CDQ reserves. Section 679.20(b)(1)(ii)(C) requires that NMFS allocate 10.7 percent of the TAC for Atka mackerel, Aleutian Islands Pacific ocean perch, yellowfin sole, rock sole, flathead sole, and Pacific cod to the CDQ reserves. Sections 679.20(a)(5)(i)(A) and 679.31(a) also require that 10 percent of the BSAI pollock TACs be allocated to the pollock CDQ directed fishing allowance (DFA). The entire Bogoslof District pollock TAC is allocated as an ICA (see § 679.20(a)(5)(ii)). With the exception of the hook-and-line and pot gear sablefish CDQ reserve, the regulations do not further apportion the CDQ allocations by gear.

Pursuant to § 679.20(a)(5)(i)(A)(1), NMFS allocates a pollock ICA of 4.0 percent of the BS subarea pollock TAC after subtracting the 10 percent CDQ reserve. This allowance is based on NMFS' examination of the pollock incidental catch, including the incidental catch by CDQ vessels, in target fisheries other than pollock from 2000 through 2014. During this 15-year period, the pollock incidental catch ranged from a low of 2.4 percent in 2006 to a high of 4.8 percent in 2014, with a 15-year average of 3.2 percent. Pursuant to § 679.20(a)(5)(iii)(B)(2)(i) and (ii), NMFS establishes a pollock ICA of 2,400 mt of the AI subarea TAC after subtracting the 10-percent CDQ DFA. This allowance is based on NMFS' examination of the pollock incidental catch, including the incidental catch by CDQ vessels, in target fisheries other than pollock from 2003 through 2014. During this 12-year period, the incidental catch of pollock ranged from a low of 5 percent in 2006 to a high of 17 percent in 2014, with an 11-year average of 8 percent.

Pursuant to § 679.20(a)(8) and (10), NMFS allocates ICAs of 5,000 mt of flathead sole, 8,000 mt of rock sole, 5,000 mt of yellowfin sole, 10 mt of WAI Pacific ocean perch, 75 mt of CAI Pacific ocean perch, 100 mt of EAI Pacific ocean perch, 40 mt of WAI Atka mackerel, 75 mt of CAI Atka mackerel, and 1,000 mt of EAI and BS subarea Atka mackerel TAC after subtracting the 10.7 percent CDQ reserve. These ICA allowances are based on NMFS' examination of the incidental catch in other target fisheries from 2003 through 2014.

The regulations do not designate the remainder of the non-specified reserve by species or species group. Any amount of the reserve may be apportioned to a target species category that contributed to the non-specified reserves during the year, provided that such apportionments do not result in overfishing (see § 679.20(b)(1)(i)). The Regional Administrator has determined that the ITACs specified for the species listed in Table 1 need to be supplemented from the non-specified reserve because U.S. fishing vessels have demonstrated the capacity to catch the full TAC allocations. Therefore, in accordance with § 679.20(b)(3), NMFS is apportioning the amounts shown in Table 3 from the non-specified reserve to increase the ITAC for shortraker rockfish, rougheye rockfish, “other rockfish,” sharks, and octopuses by 15 percent of the TAC in 2015 and 2016.

Table 3—Final 2015 and 2016 Apportionment of Reserves to ITAC Categories
[Amounts are in metric tons]
Species-area or subarea | 2015 ITAC | 2015 reserve amount | 2015 final ITAC | 2016 ITAC | 2016 reserve amount | 2016 final ITAC
Shortraker rockfish-BSAI | 213 | 37 | 250 | 213 | 37 | 250
Rougheye rockfish-BS/EAI | 127 | 22 | 149 | 127 | 22 | 149
Rougheye rockfish-CAI/WAI | 170 | 30 | 200 | 170 | 30 | 200
Other rockfish-Bering Sea subarea | 276 | 49 | 325 | 276 | 49 | 325
Other rockfish-Aleutian Islands subarea | 472 | 83 | 555 | 472 | 83 | 555
Sharks | 106 | 19 | 125 | 106 | 19 | 125
Octopuses | 340 | 60 | 400 | 340 | 60 | 400
Total | 1,704 | 300 | 2,004 | 1,704 | 300 | 2,004

Allocation of Pollock TAC Under the American Fisheries Act (AFA)

Section 679.20(a)(5)(i)(A) requires that the BS subarea pollock TAC be apportioned, after subtracting 10 percent for the CDQ program and 4.0 percent for the ICA, as a DFA as follows: 50 percent to the inshore sector, 40 percent to the catcher/processor (C/P) sector, and 10 percent to the mothership sector. In the BS subarea, 40 percent of the DFA is allocated to the A season (January 20-June 10), and 60 percent of the DFA is allocated to the B season (June 10-November 1) (§ 679.20(a)(5)(i)(A)). The AI-directed pollock fishery allocation to the Aleut Corporation is the amount of pollock remaining in the AI subarea after subtracting 1,900 mt for the CDQ DFA (10 percent) and 2,400 mt for the ICA (§ 679.20(a)(5)(iii)(B)(2)(ii)). In the AI subarea, the total A season apportionment of the TAC is less than or equal to 40 percent of the ABC and the remainder of the TAC is allocated to the B season. Tables 4 and 5 list these 2015 and 2016 amounts.

The Steller sea lion protection measure final rule (79 FR 70286, November 25, 2014), sets harvest limits for pollock in the A season (January 20 to June 10) in Areas 543, 542, and 541, see § 679.20(a)(5)(iii)(B)(6). In Area 543, the A season pollock harvest limit is no more than 5 percent of the Aleutian Islands pollock ABC. In Area 542, the A season pollock harvest limit is no more than 15 percent of the Aleutian Islands ABC. In Area 541, the A season pollock harvest limit is no more than 30 percent of the Aleutian Islands ABC.

Section 679.20(a)(5)(i)(A)(4) also includes several specific requirements regarding BS subarea pollock allocations. First, it requires that 8.5 percent of the pollock allocated to the C/P sector be available for harvest by AFA catcher vessels (CVs) with C/P sector endorsements, unless the Regional Administrator receives a cooperative contract that allows the distribution of harvest among AFA C/Ps and AFA CVs in a manner agreed to by all members. Second, AFA C/Ps not listed in the AFA are limited to harvesting not more than 0.5 percent of the pollock allocated to the C/P sector. Tables 4 and 5 list the 2015 and 2016 allocations of pollock TAC. Tables 21 through 26 list the AFA C/P and CV harvesting sideboard limits. The tables for the pollock allocations to the BS subarea inshore pollock cooperatives and open access sector will be posted on the Alaska Region Web site at http://alaskafisheries.noaa.gov.

Tables 4 and 5 also list seasonal apportionments of pollock and harvest limits within the Steller Sea Lion Conservation Area (SCA). The harvest within the SCA, as defined at § 679.22(a)(7)(vii), is limited to no more than 28 percent of the annual DFA before 12:00 noon, April 1, as provided in § 679.20(a)(5)(i)(C). The A season pollock SCA harvest limit will be apportioned to each sector in proportion to each sector's allocated percentage of the DFA. Tables 4 and 5 list these 2015 and 2016 amounts by sector.

Table 4—Final 2015 Allocations of Pollock TACS to the Directed Pollock Fisheries and to the CDQ Directed Fishing Allowances (DFA) ¹
[Amounts are in metric tons]
Area and sector | 2015 Allocations | 2015 A season ¹: A season DFA | 2015 A season ¹: SCA harvest limit ² | 2015 B season ¹: B season DFA
Bering Sea subarea TAC ¹ | 1,310,000 | n/a | n/a | n/a
CDQ DFA | 131,000 | 52,400 | 36,680 | 78,600
ICA ¹ | 47,160 | n/a | n/a | n/a
AFA Inshore | 565,920 | 226,368 | 158,458 | 339,552
AFA Catcher/Processors ³ | 452,736 | 181,094 | 126,766 | 271,642
Catch by C/Ps | 414,253 | 165,701 | n/a | 248,552
Catch by CVs ³ | 38,483 | 15,393 | n/a | 23,090
Unlisted C/P Limit ⁴ | 2,264 | 905 | n/a | 1,358
AFA Motherships | 113,184 | 45,274 | 31,692 | 67,910
Excessive Harvesting Limit ⁵ | 198,072 | n/a | n/a | n/a
Excessive Processing Limit ⁶ | 339,552 | n/a | n/a | n/a
Total Bering Sea DFA | 1,131,840 | 452,736 | 316,915 | 679,104
Aleutian Islands subarea ABC | 29,659 | n/a | n/a | n/a
Aleutian Islands subarea TAC ¹ | 19,000 | n/a | n/a | n/a
CDQ DFA | 1,900 | 760 | n/a | 1,140
ICA | 2,400 | 1,200 | n/a | 1,200
Aleut Corporation | 14,700 | 9,904 | n/a | 4,796
Area harvest limit:
541 | 8,898 | n/a | n/a | n/a
542 | 4,449 | n/a | n/a | n/a
543 | 1,483 | n/a | n/a | n/a
Bogoslof District ICA ⁷ | 100 | n/a | n/a | n/a
¹ Pursuant to § 679.20(a)(5)(i)(A), the BS subarea pollock, after subtracting the CDQ DFA (10 percent) and the ICA (4.0 percent), is allocated as a DFA as follows: Inshore sector—50 percent, catcher/processor sector (C/P)—40 percent, and mothership sector—10 percent. In the BS subarea, 40 percent of the DFA is allocated to the A season (January 20-June 10) and 60 percent of the DFA is allocated to the B season (June 10-November 1). Pursuant to § 679.20(a)(5)(iii)(B)(2)(i) and (ii), the annual AI pollock TAC, after subtracting first for the CDQ directed fishing allowance (10 percent) and second the ICA (2,400 mt), is allocated to the Aleut Corporation for a pollock directed fishery. In the AI subarea, the A season is allocated 40 percent of the ABC and the B season is allocated the remainder of the pollock directed fishery.
² In the BS subarea, no more than 28 percent of each sector's annual DFA may be taken from the SCA before April 1.
³ Pursuant to § 679.20(a)(5)(i)(A)(4), not less than 8.5 percent of the DFA allocated to listed catcher/processors shall be available for harvest only by eligible catcher vessels delivering to listed catcher/processors.
⁴ Pursuant to § 679.20(a)(5)(i)(A)(4)(iii), the AFA unlisted catcher/processors are limited to harvesting not more than 0.5 percent of the catcher/processors sector's allocation of pollock.
⁵ Pursuant to § 679.20(a)(5)(i)(A)(6), NMFS establishes an excessive harvesting share limit equal to 17.5 percent of the sum of the non-CDQ pollock DFAs.
⁶ Pursuant to § 679.20(a)(5)(i)(A)(7), NMFS establishes an excessive processing share limit equal to 30.0 percent of the sum of the non-CDQ pollock DFAs.
⁷ Pursuant to § 679.20(a)(5)(iii)(B)(6), NMFS establishes harvest limits for pollock in the A season in Area 541 no more than 30 percent, in Area 542 no more than 15 percent, and in Area 543 no more than 5 percent of the Aleutian Islands pollock ABC.
⁸ The Bogoslof District is closed by the final harvest specifications to directed fishing for pollock. The amounts specified are for ICA only and are not apportioned by season or sector.
Note: Seasonal or sector apportionments may not total precisely due to rounding.

Table 5—Final 2016 Allocations of Pollock TACS to the Directed Pollock Fisheries and to the CDQ Directed Fishing Allowances (DFA) ¹
[Amounts are in metric tons]
Area and sector | 2016 Allocations | 2016 A season ¹: A season DFA | 2016 A season ¹: SCA harvest limit ² | 2016 B season ¹: B season DFA
Bering Sea subarea TAC ¹ | 1,310,000 | n/a | n/a | n/a
CDQ DFA | 131,000 | 52,400 | 36,680 | 78,600
ICA ¹ | 47,160 | n/a | n/a | n/a
AFA Inshore | 565,920 | 226,368 | 158,458 | 339,552
AFA Catcher/Processors ³ | 452,736 | 181,094 | 126,766 | 271,642
Catch by C/Ps | 414,253 | 165,701 | n/a | 248,552
Catch by CVs ³ | 38,483 | 15,393 | n/a | 23,090
Unlisted C/P Limit ⁴ | 2,264 | 905 | n/a | 1,358
AFA Motherships | 113,184 | 45,274 | 31,692 | 67,910
Excessive Harvesting Limit ⁵ | 198,072 | n/a | n/a | n/a
Excessive Processing Limit ⁶ | 339,552 | n/a | n/a | n/a
Total Bering Sea DFA | 1,131,840 | 452,736 | 316,915 | 679,104
Aleutian Islands subarea ABC | 31,900 | n/a | n/a | n/a
Aleutian Islands subarea TAC ¹ | 19,000 | n/a | n/a | n/a
CDQ DFA | 1,900 | 760 | n/a | 1,140
ICA | 2,400 | 1,200 | n/a | 1,200
Aleut Corporation | 14,700 | 10,800 | n/a | 3,900
Area harvest limit: ⁷
541 | 9,570 | n/a | n/a | n/a
542 | 4,785 | n/a | n/a | n/a
543 | 1,595 | n/a | n/a | n/a
Bogoslof District ICA ⁸ | 100 | n/a | n/a | n/a
¹ Pursuant to § 679.20(a)(5)(i)(A), the BS subarea pollock, after subtracting the CDQ DFA (10 percent) and the ICA (4.0 percent), is allocated as a DFA as follows: Inshore sector—50 percent, catcher/processor sector (C/P)—40 percent, and mothership sector—10 percent. In the BS subarea, 40 percent of the DFA is allocated to the A season (January 20-June 10) and 60 percent of the DFA is allocated to the B season (June 10-November 1). Pursuant to § 679.20(a)(5)(iii)(B)(2)(i) and (ii), the annual AI pollock TAC, after subtracting first for the CDQ directed fishing allowance (10 percent) and second the ICA (2,400 mt), is allocated to the Aleut Corporation for a pollock directed fishery. In the AI subarea, the A season is allocated 40 percent of the ABC and the B season is allocated the remainder of the pollock directed fishery.
² In the BS subarea, no more than 28 percent of each sector's annual DFA may be taken from the SCA before April 1.
⁴ Pursuant to § 679.20(a)(5)(i)(A)(4)(iii), the AFA unlisted catcher/processors are limited to harvesting not more than 0.5 percent of the catcher/processors sector's allocation of pollock.
⁵ Pursuant to § 679.20(a)(5)(i)(A)(6), NMFS establishes an excessive harvesting share limit equal to 17.5 percent of the sum of the non-CDQ pollock DFAs.
⁶ Pursuant to § 679.20(a)(5)(i)(A)(7), NMFS establishes an excessive processing share limit equal to 30.0 percent of the sum of the non-CDQ pollock DFAs.
⁷ Pursuant to § 679.20(a)(5)(iii)(B)(6), NMFS establishes harvest limits for pollock in the A season in Area 541 no more than 30 percent, in Area 542 no more than 15 percent, and in Area 543 no more than 5 percent of the Aleutian Islands pollock ABC.
⁸ The Bogoslof District is closed by the final harvest specifications to directed fishing for pollock. The amounts specified are for ICA only and are not apportioned by season or sector.
Note: Seasonal or sector apportionments may not total precisely due to rounding.

Allocation of the Atka Mackerel TACs

Section 679.20(a)(8) allocates the Atka mackerel TACs to the Amendment 80 and BSAI trawl limited access sectors, after subtracting the CDQ reserves, jig gear allocation, and ICAs for the BSAI trawl limited access sector and non-trawl gear sector (Tables 6 and 7). The percentage of the ITAC for Atka mackerel allocated to the Amendment 80 and BSAI trawl limited access sectors is listed in Table 33 to part 679 and in § 679.91. Pursuant to § 679.20(a)(8)(i), up to 2 percent of the EAI and the BS subarea Atka mackerel ITAC may be allocated to vessels using jig gear. The percent of this allocation is recommended annually by the Council based on several criteria, including the anticipated harvest capacity of the jig gear fleet. The Council recommended, and NMFS approves, a 0.5 percent allocation of the Atka mackerel ITAC in the EAI and BS subarea to the jig gear sector in 2015 and 2016. This percentage is applied to the Atka mackerel TAC after subtracting the CDQ reserve and the ICA.

Section 679.20(a)(8)(ii)(A) apportions the Atka mackerel TAC into two equal seasonal allowances. Section 679.23(e)(3) sets the first seasonal allowance for directed fishing with trawl gear from January 20 through June 10 (A season), and the second seasonal allowance from June 10 through December 31 (B season). Section 679.23(e)(4)(iii) applies Atka mackerel seasons to CDQ Atka mackerel fishing. The ICA and jig gear allocations are not apportioned by season.

Sections 679.20(a)(8)(ii)(C)(1)(i) and (ii) limits Atka mackerel catch within waters 0 nm to 20 nm of Steller sea lion sites listed in Table 6 to this part and located west of 178° W longitude to no more than 60 percent of the annual TACs in Areas 542 and 543; and equally divides the annual TAC between the A and B seasons as defined at § 679.23(e)(3). Section 679.20(a)(8)(ii)(C)(2) requires the annual TAC in Area 543 will be no more than 65 percent of the ABC in Area 543. Section 679.20(a)(8)(ii)(D) requires that any unharvested Atka mackerel A season allowance that is added to the B season be prohibited from being harvested within waters 0 nm to 20 nm of Steller sea lion sites listed in Table 6 to this part and located in Areas 541, 542, and 543.

Tables 6 and 7 list these 2015 and 2016 Atka mackerel seasons, area allowances, and the sector allocations. The 2016 allocations for Atka mackerel between Amendment 80 cooperatives and the Amendment 80 limited access sector will not be known until eligible participants apply for participation in the program by November 1, 2015.

Table 6—Final 2015 Seasonal and Spatial Allowances, Gear Shares, CDQ Reserve, Incidental Catch Allowance, and Amendment 80 Allocations of the BSAI ATKA Mackerel TAC
[Amounts are in metric tons]
Sector ¹ | Season 2 3 4 | 2015 allocation by area: Eastern Aleutian District/ Bering Sea | 2015 allocation by area: Central Aleutian District ⁵ | 2015 allocation by area: Western Aleutian District
TAC | n/a | 27,000 | 17,000 | 10,500
CDQ reserve | Total | 2,889 | 1,819 | 1,124
| A | 1,445 | 910 | 562
| Critical Habitat | n/a | 546 | 337
| B | 1,445 | 910 | 562
| Critical Habitat | n/a | 546 | 337
ICA | Total | 1,000 | 75 | 40
Jig ⁶ | Total | 116 | 0 | 0
BSAI trawl limited access | Total | 2,300 | 1,511 | 0
| A | 1,150 | 755 | 0
| Critical Habitat | n/a | 453 | 0
| B | 1,150 | 755 | 0
| Critical Habitat | n/a | 453 | 0
Amendment 80 sectors | Total | 20,696 | 13,595 | 9,337
| A | 10,348 | 6,798 | 4,668
| B | 10,348 | 6,798 | 4,668
Alaska Groundfish Cooperative | Total ⁶ | 11,616 | 8,116 | 5,742
| A | 5,808 | 4,058 | 2,871
| Critical Habitat | n/a | 2,435 | 1,723
| B | 5,808 | 4,058 | 2,871
| Critical Habitat | n/a | 2,435 | 1,723
Alaska Seafood Cooperative | Total ⁶ | 9,080 | 5,479 | 3,594
| A | 4,540 | 2,740 | 1,797
| Critical Habitat | n/a | 1,644 | 1,078
| B | 4,540 | 2,740 | 1,797
| Critical Habitat | n/a | 1,644 | 1,078
¹ Section 679.20(a)(8)(ii) allocates the Atka mackerel TACs, after subtracting the CDQ reserves, jig gear allocation, and ICAs to the Amendment 80 and BSAI trawl limited access sectors. The allocation of the ITAC for Atka mackerel to the Amendment 80 and BSAI trawl limited access sectors is established in Table 33 to part 679 and § 679.91. The CDQ reserve is 10.7 percent of the TAC for use by CDQ participants (see §§ 679.20(b)(1)(ii)(C) and 679.31).
² Regulations at §§ 679.20(a)(8)(ii)(A) and 679.22(a) establish temporal and spatial limitations for the Atka mackerel fishery.
³ The seasonal allowances of Atka mackerel are 50 percent in the A season and 50 percent in the B season.
⁴ Section 679.23(e)(3) authorizes directed fishing for Atka mackerel with trawl gear during the A season from January 20 to June 10 and the B season from June 10 to December 31.
⁵ Section 679.20(a)(8)(ii)(C)(1)(i) limits no more than 60 percent of the annual TACs in Areas 542 and 543 to be caught inside of critical habitat; (a)(ii)(C)(1)(ii) equally divides the annual TACs between the A and B seasons as defined at § 679.23(e)(3); and (a)(8)(ii)(C)(2) requires the TAC in Area 543 shall be no more than 65 percent of ABC.
⁶ Section 679.20(a)(8)(i) requires that up to 2 percent of the Eastern Aleutian District and the Bering Sea subarea TAC be allocated to jig gear after subtracting the CDQ reserve and ICA. The amount of this allocation is 0.5 percent. The jig gear allocation is not apportioned by season.
Note: Seasonal or sector apportionments may not total precisely due to rounding.

Table 7—Final 2016 Seasonal and Spatial Allowances, Gear Shares, CDQ Reserve, Incidental Catch Allowance, and Amendment 80 Allocation of the BSAI ATKA Mackerel TAC
[Amounts are in metric tons]
Sector ¹ | Season 2 3 4 | 2016 allocation by area: Eastern Aleutian District/ Bering Sea ⁵ | 2016 allocation by area: Central Aleutian District ⁵ | 2016 allocation by area: Western Aleutian District ⁵
TAC | n/a | 27,317 | 17,000 | 10,500
CDQ reserve | Total | 2,923 | 1,819 | 1,124
| A | 1,461 | 910 | 562
| Critical Habitat | n/a | 546 | 337
| B | 1,461 | 910 | 562
| Critical Habitat | n/a | 546 | 337
ICA | Total | 1,000 | 75 | 40
Jig ⁶ | Total | 117 | 0 | 0
BSAI trawl limited access | Total | 2,328 | 1,511 | 0
| A | 1,164 | 755 | 0
| Critical Habitat | n/a | 453 | 0
| B | 1,164 | 755 | 0
| Critical Habitat | n/a | 453 | 0
Amendment 80 sectors | Total | 20,949 | 13,595 | 9,337
| A | 10,475 | 6,798 | 4,668
| B | 10,475 | 6,798 | 4,668
¹ Section 679.20(a)(8)(ii) allocates the Atka mackerel TACs, after subtracting the CDQ reserves, jig gear allocation, and ICAs to the Amendment 80 and BSAI trawl limited access sectors. The allocation of the ITAC for Atka mackerel to the Amendment 80 and BSAI trawl limited access sectors is established in Table 33 to part 679 and § 679.91. The CDQ reserve is 10.7 percent of the TAC for use by CDQ participants (see §§ 679.20(b)(1)(ii)(C) and 679.31).
² Regulations at §§ 679.20(a)(8)(ii)(A) and 679.22(a) establish temporal and spatial limitations for the Atka mackerel fishery.
³ The seasonal allowances of Atka mackerel are 50 percent in the A season and 50 percent in the B season.
⁴ Section 679.23(e)(3) authorizes directed fishing for Atka mackerel with trawl gear during the A season from January 20 to June 10 and the B season from June 10 to December 31.
⁵ Section 679.20(a)(8)(ii)(C)(1)(i) limits no more than 60 percent of the annual TACs in Areas 542 and 543 to be caught inside of critical habitat; (a)(8)(ii)(C)(1)(ii) equally divides the annual TACs between the A and B seasons as defined at § 679.23(e)(3); and (a)(8)(ii)(C)(2) requires the TAC in Area 543 shall be no more than 65 percent of ABC.
⁶ Section 679.20(a)(8)(i) requires that up to 2 percent of the Eastern Aleutian District and the Bering Sea subarea TAC be allocated to jig gear after subtracting the CDQ reserve and ICA. The amount of this allocation is 0.5 percent. The jig gear allocation is not apportioned by season.
⁷ The 2016 allocations for Atka mackerel between Amendment 80 cooperatives and the Amendment 80 limited access sector will not be known until eligible participants apply for participation in the program by November 1, 2015. NMFS will post 2016 Amendment 80 allocations when they become available in December 2015.
Note: Seasonal or sector apportionments may not total precisely due to rounding.

Allocation of the Pacific Cod TAC

The Council separated BS and AI subarea OFLs, ABCs, and TACs for Pacific cod. Section 679.20(b)(1)(ii)(C) allocates 10.7 percent of the BS TAC and AI TAC to the CDQ program. After CDQ allocations have been deducted from the respective BS and AI Pacific cod TACs, the remaining BS and AI Pacific cod TACs are combined for calculating further BSAI Pacific cod sector allocations. However, if the non-CDQ Pacific cod TAC is or will be reached in either the BS or AI subareas, NMFS will prohibit non-CDQ directed fishing for Pacific cod in that subarea as provided in § 679.20(d)(1)(iii).

Sections 679.20(a)(7)(i) and (ii) allocate the Pacific cod TAC in the combined BSAI TAC, after subtracting 10.7 percent for the CDQ program, as follows: 1.4 percent to vessels using jig gear; 2.0 percent to hook-and-line and pot CVs less than 60 ft (18.3 m) length overall (LOA); 0.2 percent to hook-and-line CVs greater than or equal to 60 ft (18.3 m) LOA; 48.7 percent to hook-and-line C/P; 8.4 percent to pot CVs greater than or equal to 60 ft (18.3 m) LOA; 1.5 percent to pot C/Ps; 2.3 percent to AFA trawl C/Ps; 13.4 percent to non-AFA trawl C/Ps; and 22.1 percent to trawl CVs. The ICA for the hook-and-line and pot sectors will be deducted from the aggregate portion of Pacific cod TAC allocated to the hook-and-line and pot sectors. For 2015 and 2016, the Regional Administrator establishes an ICA of 500 mt based on anticipated incidental catch by these sectors in other fisheries.

The ITAC allocation of Pacific cod to the Amendment 80 sector is established in Table 33 to part 679 and § 679.91. The 2016 allocations for Amendment 80 species between Amendment 80 cooperatives and the Amendment 80 limited access sector will not be known until eligible participants apply for participation in the program by November 1, 2015.

The Pacific cod ITAC is apportioned into seasonal allowances to disperse the Pacific cod fisheries over the fishing year (see §§ 679.20(a)(7) and 679.23(e)(5)). In accordance with § 679.20(a)(7)(iv)(B) and (C), any unused portion of a seasonal Pacific cod allowance will become available at the beginning of the next seasonal allowance.

Section 679.20(a)(7)(vii) requires the Regional Administrator to establish an Area 543 Pacific cod harvest limit based on Pacific cod abundance in Area 543. Based on the 2014 stock assessment, the Regional Administrator determined the Area 543 Pacific cod harvest limit to be 26.3 percent of the AI Pacific cod TAC for 2015 and 2016. NMFS will first subtract the State GHL Pacific cod amount from the AI Pacific cod ABC. Then NMFS will determine the harvest limit in Area 543 by multiplying the percentage of Pacific cod estimated in Area 543 by the remaining ABC for AI Pacific cod. Based on these calculations, the Area 543 harvest limit is 2,478 mt.

The CDQ and non-CDQ season allowances by gear based on the 2015 and 2016 Pacific cod TACs are listed in Tables 8 and 9, and are based on the sector allocation percentages of Pacific cod set forth at §§ 679.20(a)(7)(i)(B) and 679.20(a)(7)(iv)(A) and the seasonal allowances of Pacific cod set forth at § 679.23(e)(5).

Table 8—Final 2015 Gear Shares and Seasonal Allowances of the BSAI Pacific Cod TAC
[Amounts are in metric tons]
Gear sector | Percent | 2015 Share of gear sector total | 2015 Share of sector total | 2015 Seasonal apportionment: Seasons | 2015 Seasonal apportionment: Amount
BS TAC | n/a | 240,000 | n/a | n/a | n/a
BS CDQ | n/a | 25,680 | n/a | see § 679.20(a)(7)(i)(B) | n/a
BS non-CDQ TAC | n/a | 214,320 | n/a | n/a | n/a
AI TAC | n/a | 9,422 | n/a | n/a | n/a
AI CDQ | n/a | 1,008 | n/a | see § 679.20(a)(7)(i)(B) | n/a
AI non-CDQ TAC | n/a | 8,414 | n/a | n/a | n/a
Western Aleutian Island Limit | n/a | 2,478 | n/a | n/a | n/a
Total BSAI non-CDQ TAC ¹ | 100 | 222,734 | n/a | n/a | n/a
Total hook-and-line/pot gear | 60.8 | 135,422 | n/a | n/a | n/a
Hook-and-line/pot ICA ² | n/a | 500 | n/a | see § 679.20(a)(7)(ii)(B) | n/a
Hook-and-line/pot sub-total | n/a | 134,922 | n/a | n/a | n/a
Hook-and-line catcher/processor | 48.7 | n/a | 108,071 | Jan 1-Jun 10 | 55,116
|  |  |  | Jun 10-Dec 31 | 52,955
Hook-and-line catcher vessel ≥ 60 ft LOA | 0.2 | n/a | 444 | Jan 1-Jun 10 | 226
|  |  |  | Jun 10-Dec 31 | 217
Pot catcher/processor | 1.5 | n/a | 3,329 | Jan 1-Jun 10 | 1,698
|  |  |  | Sept 1-Dec 31 | 1,631
Pot catcher vessel ≥ 60 ft LOA | 8.4 | n/a | 18,641 | Jan 1-Jun 10 | 9,507
|  |  |  | Sept 1-Dec 31 | 9,134
Catcher vessel < 60 ft LOA using hook-and-line or pot gear | 2 | n/a | 4,438 | n/a | n/a
Trawl catcher vessel | 22.1 | 49,224 | n/a | Jan 20-Apr 1 | 36,426
|  |  |  | Apr 1-Jun 10 | 5,415
|  |  |  | Jun 10-Nov 1 | 7,384
AFA trawl catcher/processor | 2.3 | 5,123 | n/a | Jan 20-Apr 1 | 3,842
|  |  |  | Apr 1-Jun 10 | 1,281
|  |  |  | Jun 10-Nov 1 | 0
Amendment 80 | 13.4 | 29,846 | n/a | Jan 20-Apr 1 | 22,385
|  |  |  | Apr 1-Jun 10 | 7,462
|  |  |  | Jun 10-Nov 1 | 0
Alaska Groundfish Cooperative | n/a | n/a | 4,711 | Jan 20-Apr 1 | 3,533
|  |  |  | Apr 1-Jun 10 | 1,178
|  |  |  | Jun 10-Dec 31 | 0
Alaska Seafood Cooperative | n/a | n/a | 25,135 | Jan 20-Apr 1 | 18,851
|  |  |  | Apr 1-Jun 10 | 6,284
|  |  |  | Jun 10-Dec 31 | 0
Jig | 1.4 | 3,118 | n/a | Jan 1-Apr 30 | 1,871
|  |  |  | Apr 30-Aug 31 | 624
|  |  |  | Aug 31-Dec 31 | 624
¹ The gear shares and seasonal allowances for BSAI Pacific cod TAC are based on the sum of the BS and AI Pacific cod TACs, after the subtraction of CDQ. If the TAC for Pacific cod in either the AI or BS is reached, then directed fishing for Pacific cod in that subarea may be prohibited, even if a BSAI allowance remains.
² The ICA for the hook-and-line and pot sectors will be deducted from the aggregate portion of Pacific cod TAC allocated to the hook-and-line and pot sectors. The Regional Administrator approves an ICA of 500 mt for 2015 based on anticipated incidental catch in these fisheries.
Note: Seasonal or sector apportionments may not total precisely due to rounding.

Table 9—Final 2016 Gear Shares and Seasonal Allowances of the BSAI Pacific Cod TAC
[Amounts are in metric tons]
Gear sector | Percent | 2016 Share of gear sector total | 2016 Share of sector total | 2016 Seasonal apportionment: Seasons | 2016 Seasonal apportionment: Amount
BS TAC | n/a | 240,000 | n/a | n/a | n/a
BS CDQ | n/a | 25,680 | n/a | see § 679.20(a)(7)(i)(B) | n/a
BS non-CDQ TAC | n/a | 214,320 | n/a | n/a | n/a
AI TAC | n/a | 9,422 | n/a | n/a | n/a
AI CDQ | n/a | 1,008 | n/a | see § 679.20(a)(7)(i)(B) | n/a
AI non-CDQ TAC | n/a | 8,414 | n/a | n/a | n/a
Western Aleutian Island Limit | n/a | 2,478 | n/a | n/a | n/a
Total BSAI non-CDQ TAC ¹ | n/a | 222,734 | n/a | n/a | n/a
Total hook-and-line/pot gear | 60.8 | 135,422 | n/a | n/a | n/a
Hook-and-line/pot ICA ² | n/a | 500 | n/a | see § 679.20(a)(7)(ii)(B) | n/a
Hook-and-line/pot sub-total | n/a | 134,922 | n/a | n/a | n/a
Hook-and-line catcher/processor | 48.7 | n/a | 108,071 | Jan 1-Jun 10 | 55,116
|  |  |  | Jun 10-Dec 31 | 52,955
Hook-and-line catcher vessel ≥ 60 ft LOA | 0.2 | n/a | 444 | Jan 1-Jun 10 | 226
|  |  |  | Jun 10-Dec 31 | 217
Pot catcher/processor | 1.5 | n/a | 3,329 | Jan 1-Jun 10 | 1,698
|  |  |  | Sept 1-Dec 31 | 1,631
Pot catcher vessel ≥ 60 ft LOA | 8.4 | n/a | 18,641 | Jan 1-Jun 10 | 9,507
|  |  |  | Sept 1-Dec 31 | 9,134
Catcher vessel < 60 ft LOA using hook-and-line or pot gear | 2 | n/a | 4,438 | n/a | n/a
Trawl catcher vessel | 22.1 | 49,224 | n/a | Jan 20-Apr 1 | 36,426
|  |  |  | Apr 1-Jun 10 | 5,415
|  |  |  | Jun 10-Nov 1 | 7,384
AFA trawl catcher/processor | 2.3 | 5,123 | n/a | Jan 20-Apr 1 | 3,842
|  |  |  | Apr 1-Jun 10 | 1,281
|  |  |  | Jun 10-Nov 1 | 0
Amendment 80 | 13.4 | 29,846 | n/a | Jan 20-Apr 1 | 22,385
|  |  |  | Apr 1-Jun 10 | 7,462
|  |  |  | Jun 10-Dec 31 | 0
Jig | 1.4 | 3,118 | n/a | Jan 1-Apr 30 | 1,871
|  |  |  | Apr 30-Aug 31 | 624
|  |  |  | Aug 31-Dec 31 | 624
¹ The gear shares and seasonal allowances for BSAI Pacific cod TAC are based on the sum of the BS and AI Pacific cod TACs, after the subtraction of CDQ. If the TAC for Pacific cod in either the AI or BS is reached, then directed fishing for Pacific cod in that subarea may be prohibited, even if a BSAI allowance remains.
² The ICA for the hook-and-line and pot sectors will be deducted from the aggregate portion of Pacific cod TAC allocated to the hook-and-line and pot sectors. The Regional Administrator approves an ICA of 500 mt for 2016 based on anticipated incidental catch in these fisheries.
Note: Seasonal or sector apportionments may not total precisely due to rounding.

Sablefish Gear Allocation

Sections 679.20(a)(4)(iii) and (iv) require allocation of the sablefish TAC for the BS and AI subareas between trawl and hook-and-line or pot gear sectors. Gear allocations of the TAC for the BS subarea are 50 percent for trawl gear and 50 percent for hook-and-line or pot gear. Gear allocations of the TACs for the AI subarea are 25 percent for trawl gear and 75 percent for hook-and-line or pot gear. Section 679.20(b)(1)(ii)(B) requires NMFS to apportion 20 percent of the hook-and-line and pot gear allocation of sablefish to the CDQ reserve. Additionally, § 679.20(b)(1)(ii)(D)(1) requires that 7.5 percent of the trawl gear allocation of sablefish from the non-specified reserves, established under § 679.20(b)(1)(i), be assigned to the CDQ reserve. The Council recommended that only trawl sablefish TAC be established biennially. The harvest specifications for the hook-and-line gear and pot gear sablefish Individual Fishing Quota (IFQ) fisheries will be limited to the 2015 fishing year to ensure those fisheries are conducted concurrently with the halibut IFQ fishery. Concurrent sablefish and halibut IFQ fisheries will reduce the potential for discards of halibut and sablefish in those fisheries. The sablefish IFQ fisheries will remain closed at the beginning of each fishing year until the final harvest specifications for the sablefish IFQ fisheries are in effect. Table 10 lists the 2015 and 2016 gear allocations of the sablefish TAC and CDQ reserve amounts.

Table 10—Final 2015 and 2016 Gear Shares and CDQ Reserve of BSAI Sablefish TACS
[Amounts are in metric tons]
Subarea and gear | Percent of TAC | 2015 Share of TAC | 2015 ITAC | 2015 CDQ Reserve | 2016 Share of TAC | 2016 ITAC | 2016 CDQ Reserve
Bering Sea:
Trawl ¹ | 50 | 667 | 567 | 50 | 606 | 515 | 45
Hook-and-line/pot gear ² | 50 | 667 | 533 | 133 | n/a | n/a
Total | 100 | 1,333 | 1,100 | 183 | 606 | 515 | 45
Aleutian Islands:
Trawl ¹ | 25 | 451 | 383 | 34 | 410 | 349 | 31
Hook-and-line/pot gear ² | 75 | 1,351 | 1,081 | 270 | n/a | n/a | n/a
Total | 100 | 1,802 | 1,464 | 304 | 410 | 349 | 31
¹ Except for the sablefish hook-and-line or pot gear allocation, 15 percent of TAC is apportioned to the reserve. The ITAC is the remainder of the TAC after the subtracting these reserves.
² For the portion of the sablefish TAC allocated to vessels using hook-and-line or pot gear, 20 percent of the allocated TAC is reserved for use by CDQ participants. The Council recommended that specifications for the hook-and-line gear sablefish IFQ fisheries be limited to one year.
Note: Sector apportionments may not total precisely due to rounding.

Allocation of the AI Pacific Ocean Perch, and BSAI Flathead Sole, Rock Sole, and Yellowfin Sole TACs

Sections 679.20(a)(10)(i) and (ii) require that NMFS allocate AI Pacific ocean perch, and BSAI flathead sole, rock sole, and yellowfin sole TAC between the Amendment 80 sector and BSAI trawl limited access sector, after subtracting 10.7 percent for the CDQ reserve and an ICA for the BSAI trawl limited access sector and vessels using non-trawl gear. The allocation of the ITAC for AI Pacific ocean perch, and BSAI flathead sole, rock sole, and yellowfin sole to the Amendment 80 sector is established in accordance with Tables 33 and 34 to part 679 and § 679.91.

The 2016 allocations for Amendment 80 species between Amendment 80 cooperatives and the Amendment 80 limited access sector will not be known until eligible participants apply for participation in the program by November 1, 2015. Tables 11 and 12 list the 2015 and 2016 allocations of the AI Pacific ocean perch, and BSAI flathead sole, rock sole, and yellowfin sole TACs.

Table 11—Final 2015 Community Development Quota (CDQ) Reserves, Incidental Catch Amounts (ICAS), and Amendment 80 Allocations of the Aleutian Islands Pacific Ocean Perch, and BSAI Flathead Sole, Rock Sole, and Yellowfin Sole TACS
[Amounts are in metric tons]
Sector | Pacific ocean perch: Eastern Aleutian District | Pacific ocean perch: Central Aleutian District | Pacific ocean perch: Western Aleutian District | Flathead sole: BSAI | Rock sole: BSAI | Yellowfin sole: BSAI
TAC | 8,000 | 7,000 | 9,000 | 24,250 | 69,250 | 149,000
CDQ | 856 | 749 | 963 | 2,595 | 7,410 | 15,943
ICA | 100 | 75 | 10 | 5,000 | 8,000 | 5,000
BSAI trawl limited access | 704 | 618 | 161 | 0 | 0 | 16,165
Amendment 80 | 6,340 | 5,558 | 7,866 | 16,655 | 53,840 | 111,892
Alaska Groundfish Cooperative | 3,362 | 2,947 | 4,171 | 1,708 | 13,318 | 44,455
Alaska Seafood Cooperative | 2,978 | 2,611 | 3,695 | 14,947 | 40,522 | 67,437
Note: Sector apportionments may not total precisely due to rounding.

Table 12—Final 2016 Community Development Quota (CDQ) Reserves, Incidental Catch Amounts (ICAS), and Amendment 80 Allocations of the Aleutian Islands Pacific Ocean Perch, and BSAI Flathead Sole, Rock Sole, and Yellowfin Sole TACS
[Amounts are in metric tons]
Sector | Pacific ocean perch: Eastern Aleutian District | Pacific ocean perch: Central Aleutian District | Pacific ocean perch: Western Aleutian District | Flathead sole: BSAI | Rock sole: BSAI | Yellowfin sole: BSAI
TAC | 7,970 | 7,000 | 9,000 | 24,250 | 69,250 | 149,000
CDQ | 853 | 749 | 963 | 2,595 | 7,410 | 15,943
ICA | 100 | 75 | 10 | 5,000 | 8,000 | 5,000
BSAI trawl limited access | 702 | 618 | 161 | 0 | 0 | 16,165
Amendment 80 ¹ | 6,315 | 5,558 | 7,866 | 16,655 | 53,840 | 111,892
¹ The 2016 allocations for Amendment 80 species between Amendment 80 cooperatives and the Amendment 80 limited access sector will not be known until eligible participants apply for participation in the program by November 1, 2015. NMFS will publish 2016 Amendment 80 allocations when they become available in December 2015.
Note: Sector apportionments may not total precisely due to rounding.

Section 679.2 defines the ABC surplus for flathead sole, rock sole, and yellowfin sole as the difference between the annual ABC and TAC for each species. Section 679.20(b)(1)(iii) establishes ABC reserves for flathead sole, rock sole, and yellowfin sole. The ABC surpluses and the ABC reserves are necessary to mitigate the operational variability, environmental conditions, and economic factors that may constrain the CDQ groups and the Amendment 80 cooperatives from achieving, on a continuing basis, the optimum yield in the BSAI groundfish fisheries. NMFS, after consultation with the Council, may set the ABC reserve at or below the ABC surplus for each species thus maintaining the TAC below ABC limits. An amount equal to 10.7 percent of the ABC reserves will be allocated as CDQ reserves for flathead sole, rock sole, and yellowfin sole. The Amendment 80 ABC reserves shall be the ABC reserves minus the CDQ ABC reserves. Section 679.91(i)(2) establishes each Amendment 80 cooperative ABC reserve to be the ratio of each cooperatives' quota share (QS) units and the total Amendment 80 QS units, multiplied by the Amendment 80 ABC reserve for each respective species. Table 13 lists the 2015 and 2016 ABC surplus and ABC reserves for BSAI flathead sole, rock sole, and yellowfin sole.

Table 13—Final 2015 and 2016 ABC Surplus, Community Development Quota (CDQ) ABC Reserves, and Amendment 80 ABC Reserves in the BSAI for Flathead Sole, Rock Sole, and Yellowfin Sole
[Amounts are in metric tons]
Sector | 2015 Flathead sole | 2015 Rock sole | 2015 Yellowfin sole | 2016 Flathead sole | 2016 Rock sole | 2016 Yellowfin sole
ABC | 66,130 | 181,700 | 248,800 | 63,711 | 164,800 | 245,500
TAC | 24,250 | 69,250 | 149,000 | 24,250 | 69,250 | 149,000
ABC surplus | 41,880 | 112,450 | 99,800 | 39,461 | 95,550 | 96,500
ABC reserve | 41,880 | 112,450 | 99,800 | 39,461 | 95,550 | 96,500
CDQ ABC reserve | 4,481 | 12,032 | 10,679 | 4,222 | 10,224 | 10,326
Amendment 80 ABC reserve | 37,399 | 100,418 | 89,121 | 35,239 | 85,326 | 86,175
Alaska Groundfish Cooperative for 2015 ¹ | 3,836 | 24,840 | 35,408 | n/a | n/a | n/a
Alaska Seafood Cooperative for 2015 ¹ | 33,563 | 75,578 | 53,713 | n/a | n/a | n/a
¹ The 2016 allocations for Amendment 80 species between Amendment 80 cooperatives and the Amendment 80 limited access sector will not be known until eligible participants apply for participation in the program by November 1, 2015.

PSC Limits for Halibut, Salmon, Crab, and Herring

Section 679.21(e) sets forth the BSAI PSC limits. Pursuant to § 679.21(e)(1)(iv) and (e)(2), the 2015 and 2016 BSAI halibut mortality limits are 3,675 mt for trawl fisheries and 900 mt for the non-trawl fisheries. Sections 679.21(e)(3)(i)(A)(2) and 679.21(e)(4)(i)(A) allocate 326 mt of the trawl halibut mortality limit and 7.5 percent, or 67 mt, of the non-trawl halibut mortality limit as the PSQ reserve for use by the groundfish CDQ program.

Section 679.21(e)(4)(i) authorizes apportioning the non-trawl halibut PSC limit into PSC bycatch allowances among six fishery categories. Tables 15 and 16 list the fishery bycatch allowances for the trawl fisheries, and Table 17 lists the fishery bycatch allowances for the non-trawl fisheries.

Pursuant to Section 3.6 of the FMP, the Council recommends, and NMFS agrees, that certain specified non-trawl fisheries be exempt from the halibut PSC limit. As in past years, after consulting with the Council, NMFS exempts pot gear, jig gear, and the sablefish IFQ hook-and-line gear fishery categories from halibut bycatch restrictions for the following reasons: (1) The pot gear fisheries have low halibut bycatch mortality; (2) NMFS estimates halibut mortality for the jig gear fleet to be negligible because of the small size of the fishery and the selectivity of the gear; and (3) the IFQ program requires legal-size halibut to be retained by vessels using hook-and-line gear if a halibut IFQ permit holder or a hired master is aboard and is holding unused halibut IFQ (subpart D of 50 CFR part 679). In 2014, total groundfish catch for the pot gear fishery in the BSAI was approximately 43,225 mt, with an associated halibut bycatch mortality of about 4 mt.

The 2014 jig gear fishery harvested about 3 mt of groundfish. Most vessels in the jig gear fleet are exempt from observer coverage requirements. As a result, observer data are not available on halibut bycatch in the jig gear fishery. However, as mentioned above, NMFS estimates the jig gear sector will have a negligible amount of halibut bycatch mortality because of the selective nature of jig gear and the low mortality rate of halibut caught with jig gear and released.

Section 679.21(f)(2) annually allocates portions of either 47,591 or 60,000 Chinook salmon PSC limits among the AFA sectors, depending on past catch performance and on whether Chinook salmon bycatch incentive plan agreements are formed. If an AFA sector participates in an approved Chinook salmon bycatch incentive plan agreement, then NMFS will allocate a portion of the 60,000 PSC limit to that sector as specified in § 679.21(f)(3)(iii)(A). If no Chinook salmon bycatch incentive plan agreement is approved, or if the sector has exceeded its performance standard under § 679.21(f)(6), then NMFS will allocate a portion of the 47,591 Chinook salmon PSC limit to that sector, as specified in § 679.21(f)(3)(iii)(B). In 2015, the Chinook salmon PSC limit is 60,000 and the AFA sector Chinook salmon allocations are seasonally allocated with 70 percent of the allocation for the A season pollock fishery, and 30 percent of the allocation for the B season pollock fishery as stated in § 679.21(f)(3)(iii)(A). The basis for these PSC limits is described in detail in the final rule implementing management measures for Amendment 91 (75 FR 53026, August 30, 2010). NMFS publishes the approved Chinook salmon bycatch incentive plan agreements, 2014 allocations, and reports at: http://alaskafisheries.noaa.gov/sustainablefisheries/bycatch/default.htm.

Section 679.21(e)(1)(viii) specifies 700 fish as the 2015 and 2016 Chinook salmon PSC limit for the AI subarea pollock fishery. Section 679.21(e)(3)(i)(A)(3)(i) allocates 7.5 percent, or 53 Chinook salmon, to the AI subarea PSQ for the CDQ program, and allocates the remaining 647 Chinook salmon to the non-CDQ fisheries.

Section 679.21(e)(1)(vii) specifies 42,000 fish as the 2015 and 2016 non-Chinook salmon PSC limit in the Catcher Vessel Operational Area (CVOA). Section 679.21(e)(3)(i)(A)(3)(ii) allocates 10.7 percent, or 4,494 non-Chinook salmon in the CVOA as the PSQ for the CDQ program, and allocates the remaining 37,506 non-Chinook salmon in the CVOA as the PSC limit for the non-CDQ fisheries.

PSC limits for crab and herring are specified annually based on abundance and spawning biomass. Section 679.21(e)(3)(i)(A)(1) allocates 10.7 percent from each trawl gear PSC limit specified for crab as a PSQ reserve for use by the groundfish CDQ program.

Based on the 2014 survey data, the red king crab mature female abundance is estimated to be at 38.6 million red king crabs, which is above the threshold of 8.4 million red king crabs, and the effective spawning biomass is estimated at 51.3 million lb (23,362 mt). Based on the criteria set out at § 679.21(e)(1)(i), the 2015 and 2016 PSC limit of red king crab in Zone 1 for trawl gear is 97,000 animals. This limit derives from the mature female abundance of more than 8.4 million king crab and the effective spawning biomass estimate of less than 55 million lb (24,948 mt).

Section 679.21(e)(3)(ii)(B)(2) establishes criteria under which NMFS must specify an annual red king crab bycatch limit for the Red King Crab Savings Subarea (RKCSS). The regulations limit the RKCSS red king crab bycatch limit to 25 percent of the red king crab PSC limit, based on the need to optimize the groundfish harvest relative to red king crab bycatch. In December 2014, the Council recommended and NMFS concurs that the red king crab bycatch limit be equal to 25 percent of the red king crab PSC limit within the RKCSS (Table 15).

Based on 2014 survey data, Tanner crab (Chionoecetes bairdi) abundance is estimated at 758 million animals. Pursuant to criteria set out at § 679.21(e)(1)(ii), the calculated 2015 and 2016 C. bairdi crab PSC limit for trawl gear is 980,000 animals in Zone 1 and 2,970,000 animals in Zone 2. These limits derive from the C. bairdi crab abundance estimate being in excess of the 400 million animals for both the Zone 1 and Zone 2 allocations.

Pursuant to § 679.21(e)(1)(iii), the PSC limit for snow crab (C. opilio) is based on total abundance as indicated by the NMFS annual bottom trawl survey. The C. opilio crab PSC limit is set at 0.1133 percent of the BS abundance index minus 150,000 crab. Based on the 2014 survey estimate of 9.852 billion animals, the calculated C. opilio crab PSC limit is 11,011,976 animals.

Pursuant to § 679.21(e)(1)(v), the PSC limit of Pacific herring caught while conducting any trawl operation for BSAI groundfish is 1 percent of the annual eastern BS herring biomass. The best estimate of 2015 and 2016 herring biomass is 274,236 mt. This amount was developed by the Alaska Department of Fish and Game based on spawning location estimates. Therefore, the herring PSC limit for 2015 and 2016 is 2,742 mt for all trawl gear as listed in Tables 14 and 15.

Section 679.21(e)(3)(i)(A) requires PSQ reserves to be subtracted from the total trawl PSC limits. The 2014 PSC limits assigned to the Amendment 80 and BSAI trawl limited access sectors are specified in Table 35 to part 679. The resulting allocations of PSC limit to CDQ PSQ, the Amendment 80 sector, and the BSAI trawl limited access fisheries are listed in Table 10. Pursuant to § 679.21(e)(1)(iv) and § 679.91(d) through (f), crab and halibut trawl PSC limits assigned to the Amendment 80 sector are then further allocated to Amendment 80 cooperatives as PSC cooperative quota as listed in Table 18. PSC cooperative quota assigned to Amendment 80 cooperatives is not allocated to specific fishery categories. In 2015, there are no vessels in the Amendment 80 limited access sector. The 2016 PSC allocations between Amendment 80 cooperatives and the Amendment 80 limited access sector will not be known until eligible participants apply for participation in the program by November 1, 2015. Section 679.21(e)(3)(i)(B) requires NMFS to apportion each trawl PSC limit not assigned to Amendment 80 cooperatives into PSC bycatch allowances for seven specified fishery categories.

Section 679.21(e)(5) authorizes NMFS, after consulting with the Council, to establish seasonal apportionments of PSC amounts for the BSAI trawl limited access and Amendment 80 limited access sectors in order to maximize the ability of the fleet to harvest the available groundfish TAC and to minimize bycatch. The factors to be considered are (1) seasonal distribution of prohibited species; (2) seasonal distribution of target groundfish species; (3) PSC bycatch needs on a seasonal basis relevant to prohibited species biomass; (4) expected variations in bycatch rates throughout the year; (5) expected start of fishing effort; and (6) economic effects of seasonal PSC apportionments on industry sectors. The Council recommended and NMFS approves the seasonal PSC apportionments in Tables 15 and 16 to maximize harvest among gear types, fisheries, and seasons while minimizing bycatch of PSC based on the above criteria.

Table 14—Final 2015 and 2016 apportionment of Prohibited Species Catch Allowances to Non-Trawl Gear, the CDQ Program, Amendment 80, and the BSAI Trawl Limited Access Sectors
PSC Species and area ¹ | Total non-trawl PSC | Non-trawl PSC remaining after CDQ PSQ ² | Total trawl PSC | Trawl PSC remaining after CDQ PSQ ² | CDQ PSQ Reserve ² | Amendment 80 sector ³ | BSAI Trawl limited access fishery
Halibut mortality (mt) BSAI | 900 | 832 | 3,675 | 3,349 | 393 | 2,325 | 875
Herring (mt) BSAI | n/a | n/a | 2,742 | n/a | n/a | n/a | n/a
Red king crab (animals) Zone 1 | n/a | n/a | 97,000 | 86,621 | 10,379 | 43,293 | 26,489
C. opilio (animals) COBLZ | n/a | n/a | 11,011,976 | 9,833,695 | 1,178,281 | 4,833,261 | 3,160,549
C. bairdi crab (animals) Zone 1 | n/a | n/a | 980,000 | 875,140 | 104,860 | 368,521 | 411,228
C. bairdi crab (animals) Zone 2 | n/a | n/a | 2,970,000 | 2,652,210 | 317,790 | 627,778 | 1,241,500
¹ Refer to § 679.2 for definitions of zones.
² Section 679.21(e)(3)(i)(A)(2) allocates 326 mt of the trawl halibut mortality limit and § 679.21(e)(4)(i)(A) allocates 7.5 percent, or 67 mt, of the non-trawl halibut mortality limit as the PSQ reserve for use by the groundfish CDQ program. The PSQ reserve for crab species is 10.7 percent of each crab PSC limit.
³ The Amendment 80 program reduced apportionment of the trawl PSC limits by 150 mt for halibut mortality and 20 percent for crab. These reductions are not apportioned to other gear types or sectors.
Note: Sector apportionments may not total precisely due to rounding.

Table 15—Final 2015 and 2016 Herring and Red King Crab Savings Subarea Prohibited Species Catch Allowances for all Trawl Sectors
Fishery categories | Herring (mt) BSAI | Red king crab (animals) Zone 1
Yellowfin sole | 187 | n/a
Rock sole/flathead sole/other flatfish ¹ | 30 | n/a
Turbot/arrowtooth/sablefish ² | 20 | n/a
Rockfish | 14 | n/a
Pacific cod | 42 | n/a
Midwater trawl pollock | 2,242 | n/a
Pollock/Atka mackerel/other species ³ ⁴ | 207 | n/a
Red king crab savings subarea non-pelagic trawl gear ⁵ | n/a | 24,250
Total trawl PSC | 2,742 | 97,000
¹ “Other flatfish” for PSC monitoring includes all flatfish species, except for halibut (a prohibited species), arrowtooth flounder, flathead sole, Greenland turbot, Kamchatka flounder, rock sole, and yellowfin sole.
² “Arrowtooth flounder” for PSC monitoring includes Kamchatka flounder.
³ Pollock other than pelagic trawl pollock, Atka mackerel, and “other species” fishery category.
⁴ “Other species” for PSC monitoring includes skates, sculpins, sharks, squids, and octopuses.
⁵ In December 2014 the Council recommended that the red king crab bycatch limit for non-pelagic trawl fisheries within the RKCSS be limited to 25 percent of the red king crab PSC allowance (see § 679.21(e)(3)(ii)(B)(2)).
Note: Species apportionments may not total precisely due to rounding.

Table 16—Final 2015 And 2016 Prohibited Species Bycatch Allowances for the BSAI Trawl Limited Access Sector
BSAI Trawl limited access fisheries | Prohibited species and area ¹: Halibut mortality (mt) BSAI | Prohibited species and area ¹: Red king crab (animals) Zone 1 | Prohibited species and area ¹: C. opilio (animals) COBLZ | Prohibited species and area ¹: C. bairdi (animals): Zone 1 | Prohibited species and area ¹: C. bairdi (animals): Zone 2
Yellowfin sole | 167 | 23,338 | 2,979,410 | 346,228 | 1,185,500
Rock sole/flathead sole/other flatfish ² | 0 | 0 | 0 | 0 | 0
Turbot/arrowtooth/sablefish ³ | 0 | 0 | 0 | 0 | 0
Rockfish April 15-December 31 | 5 | 0 | 4,922 | 0 | 1,000
Pacific cod | 453 | 2,954 | 126,994 | 60,000 | 50,000
Pollock/Atka mackerel/other species ⁴ | 250 | 197 | 49,223 | 5,000 | 5,000
Total BSAI trawl limited access PSC | 875 | 26,489 | 3,160,549 | 411,228 | 1,241,500
¹ Refer to § 679.2 for definitions of areas.
² “Other flatfish” for PSC monitoring includes all flatfish species, except for halibut (a prohibited species), flathead sole, Greenland turbot, rock sole, yellowfin sole, Kamchatka flounder, and arrowtooth flounder.
³ Arrowtooth flounder for PSC monitoring includes Kamchatka flounder.
⁴ “Other species” for PSC monitoring includes skates, sculpins, sharks, squids, and octopuses.
Note: Seasonal or sector apportionments may not total precisely due to rounding.

Table 17—Final 2015 and 2016 Halibut Prohibited Species Bycatch Allowances for Non-Trawl Fisheries
Non-trawl fisheries | Catcher/ Processor | Catcher vessel
Pacific cod—Total: | 760 | 15.
January 1-June 10 | 455 | 10.
June 10-August 15 | 190 | 3.
August 15-December 31 | 115 | 2.
Other non-trawl—Total: |  | 58.
May 1-December 31 |  | 58.
Groundfish pot and jig |  | Exempt.
Sablefish hook-and-line |  | Exempt.
Total non-trawl PSC |  | 833.
Note: Seasonal or sector apportionments may not total precisely due to rounding.

Table 18—Final 2015 Prohibited Species Bycatch Allowance for the BSAI Amendment 80 Cooperatives
Cooperative | Prohibited species and zones ¹: Halibut mortality (mt) BSAI | Prohibited species and zones ¹: Red king crab (animals) Zone 1 | Prohibited species and zones ¹: C. opilio (animals) COBLZ | Prohibited species and zones ¹: C. bairdi (animals): Zone 1 | Prohibited species and zones ¹: C. bairdi (animals): Zone 2
Alaska Seafood Cooperative | 1,693 | 30,834 | 3,311,730 | 271,542 | 465,879
Alaska Groundfish Cooperative | 632 | 12,459 | 1,521,531 | 96,980 | 161,899
¹ Refer to § 679.2 for definitions of zones.
Note: Sector apportionments may not total precisely due to rounding.

Halibut Discard Mortality Rates (DMR)

To monitor halibut bycatch mortality allowances and apportionments, the Regional Administrator uses observed halibut bycatch rates, DMRs, and estimates of groundfish catch to project when a fishery's halibut bycatch mortality allowance or seasonal apportionment is reached. The DMRs are based on the best information available, including information contained in the annual SAFE report.

NMFS approves the halibut DMRs developed and recommended by the International Pacific Halibut Commission (IPHC) and the Council for the 2015 and 2016 BSAI groundfish fisheries for use in monitoring the 2015 and 2016 halibut bycatch allowances (see Tables 14, 15, 16, 17, and 18). The IPHC developed these DMRs for the 2015 and 2016 BSAI fisheries using the 10-year mean DMRs for those fisheries. The IPHC will analyze observer data annually and recommend changes to the DMRs when a fishery DMR shows large variation from the mean. A discussion of the DMRs is available from the Council (see ADDRESSES). Table 19 lists the 2015 and 2016 DMRs.

Table 19—Final 2015 And 2016 Pacific Halibut Discard Mortality Rates for the BSAI
Gear | Fishery | Halibut discard mortality rate (percent)
Non-CDQ hook-and-line | Greenland turbot | 13
| Other species ¹ | 9
| Pacific cod | 9
| Rockfish | 4
Non-CDQ trawl | Alaska plaice | 71
| Arrowtooth flounder ² | 76
| Atka mackerel | 77
| Flathead sole | 73
| Greenland turbot | 64
| Non-pelagic pollock | 77
| Pelagic pollock | 88
| Other flatfish ³ | 71
| Other species ¹ | 71
| Pacific cod | 71
| Rockfish | 79
| Rock sole | 85
| Sablefish | 75
| Yellowfin sole | 83
Non-CDQ Pot | Other species ¹ | 8
| Pacific cod | 8
CDQ trawl | Atka mackerel | 86
| Greenland turbot | 89
| Flathead sole | 79
| Non-pelagic pollock | 83
| Pacific cod | 90
| Pelagic pollock | 90
| Rockfish | 80
| Rock sole | 88
| Yellowfin sole | 86
CDQ hook-and-line | Greenland turbot | 4
| Pacific cod | 10
CDQ pot | Pacific cod | 8
| Sablefish | 34
¹ “Other species” includes skates, sculpins, sharks, squids, and octopuses.
² Arrowtooth flounder includes Kamchatka flounder.
³ “Other flatfish” includes all flatfish species, except for halibut (a prohibited species), Alaska plaice, flathead sole, Greenland turbot, rock sole, yellowfin sole, Kamchatka flounder, and arrowtooth flounder.

Directed Fishing Closures

In accordance with § 679.20(d)(1)(i), the Regional Administrator may establish a DFA for a species or species group if the Regional Administrator determines that any allocation or apportionment of a target species has been or will be reached. If the Regional Administrator establishes a DFA, and that allowance is or will be reached before the end of the fishing year, NMFS will prohibit directed fishing for that species or species group in the specified subarea or district (see § 697.20(d)(1)(iii)). Similarly, pursuant to § 679.21(e), if the Regional Administrator determines that a fishery category's bycatch allowance of halibut, red king crab, C. bairdi crab, or C. opilio crab for a specified area has been reached, the Regional Administrator will prohibit directed fishing for each species in that category in the specified area.

Based on historic catch patterns and anticipated fishing activity, the Regional Administrator has determined that the groundfish allocation amounts in Table 20 will be necessary as incidental catch to support other anticipated groundfish fisheries for the 2015 and 2016 fishing years. Consequently, in accordance with § 679.20(d)(1)(i), the Regional Administrator establishes the DFA for the species and species groups in Table 20 as zero. Therefore, in accordance with § 679.20(d)(1)(iii), NMFS is prohibiting directed fishing for these sectors and species in the specified areas effective at 1200 hrs, A.l.t., March 5, 2015, through 2400 hrs, A.l.t., December 31, 2016. Also, for the BSAI trawl limited access sector, bycatch allowances of halibut, red king crab, C. bairdi crab, and C. opilio crab listed in Table 20 are insufficient to support directed fisheries. Therefore, in accordance with § 679.21(e)(7), NMFS is prohibiting directed fishing for these sectors and fishery categories in the specified areas effective at 1200 hrs, A.l.t., March 5, 2015, through 2400 hrs, A.l.t., December 31, 2016.

Table 20—2015 and 2016 Directed Fishing Closures ¹
[Groundfish and halibut amounts are in metric tons. Crab amounts are in number of animals]
Area | Sector | Species | 2015 Incidental catch allowance | 2016 Incidental catch allowance
Bogoslof District | All | Pollock | 100 | 100
Aleutian Islands subarea | All | ICA pollock | 2,400 | 2,400
|  | “Other rockfish” ² | 555 | 555
Eastern Aleutian District/Bering Sea | Non-amendment 80 and BSAI trawl limited access | ICA Atka mackerel | 1,000 | 1,000
Eastern Aleutian District/Bering Sea | All | Rougheye rockfish | 177 | 201
Eastern Aleutian District | Non-amendment 80 and BSAI trawl limited access | ICA Pacific ocean perch | 100 | 100
Central Aleutian District | Non-amendment 80 and BSAI trawl limited access | ICA Atka mackerel | 75 | 75
|  | ICA Pacific ocean perch | 75 | 75
Western Aleutian District | Non-amendment 80 and BSAI trawl limited access | ICA Atka mackerel ICA Pacific ocean perch | 40 10 | 40 10
Central and Western Aleutian Districts | All | Rougheye rockfish | 239 | 277
Bering Sea subarea | All | Pacific ocean perch | 6,818 | 6,818
|  | “Other rockfish” ² | 325 | 325
|  | ICA pollock | 47,160 | 47,160
|  | Northern rockfish | 2,763 | 2,763
|  | Shortraker rockfish | 250 | 250
|  | Skates | 21,845 | 21,845
| All | Sculpins | 3,995 | 3,995
|  | Sharks | 125 | 125
|  | Squids | 340 | 340
|  | Octopuses | 400 | 400
| Hook-and-line and pot gear | ICA Pacific cod | 500 | 500
| Non-amendment 80 | ICA flathead sole | 5,000 | 5,000
|  | ICA rock sole | 8,000 | 8,000
Bering Sea and Aleutian Islands | Non-amendment 80 and BSAI trawl limited access | ICA yellowfin sole | 5,000 | 5,000
| BSAI trawl limited access | Rock sole/flathead sole/other flatfish—halibut mortality, red king crab Zone 1, C. opilio COBLZ, C. bairdi Zone 1 and 2 | 0 | 0
|  | Turbot/arrowtooth/sablefish—halibut mortality, red king crab Zone 1, C. opilio COBLZ, C. bairdi Zone 1 and 2 | 0 | 0
|  | Rockfish—red king crab Zone 1 | 0 | 0
¹ Maximum retainable amounts may be found in Table 11 to 50 CFR part 679.
² “Other rockfish” includes all Sebastes and Sebastolobus species except for Pacific ocean perch, northern rockfish, dark rockfish, shortraker rockfish, and rougheye rockfish.

Closures implemented under the final 2014 and 2015 BSAI harvest specifications for groundfish (79 FR 12108, March 4, 2014) remain effective under authority of these final 2015 and 2016 harvest specifications, and are posted at the following Web sites: http://alaskafisheries.noaa.gov/cm/info_bulletins/ and http://alaskafisheries.noaa.gov/fisheries_reports/reports/. While these closures are in effect, the maximum retainable amounts at § 679.20(e) and (f) apply at any time during a fishing trip. These closures to directed fishing are in addition to closures and prohibitions found in regulations at 50 CFR part 679.

Listed AFA Catcher/Processor Sideboard Limits

Pursuant to § 679.64(a), the Regional Administrator is responsible for restricting the ability of listed AFA C/Ps to engage in directed fishing for groundfish species other than pollock to protect participants in other groundfish fisheries from adverse effects resulting from the AFA and from fishery cooperatives in the pollock directed fishery. These restrictions are set out as “sideboard” limits on catch. The basis for these sideboard limits is described in detail in the final rules implementing the major provisions of the AFA (67 FR 79692, December 30, 2002) and Amendment 80 (72 FR 52668, September 14, 2007). Table 21 lists the 2015 and 2016 C/P sideboard limits.

All harvest of groundfish sideboard species by listed AFA C/Ps, whether as targeted catch or incidental catch, will be deducted from the sideboard limits in Table 21. However, groundfish sideboard species that are delivered to listed AFA C/Ps by CVs will not be deducted from the 2015 and 2016 sideboard limits for the listed AFA C/Ps.

Table 21—Final 2015 and 2016 Listed BSAI American Fisheries Act Catcher/Processor Groundfish Sideboard Limits
[Amounts are in metric tons]
1995-1997: Target species | 1995-1997: Area/Season | 1995-1997: Retained catch | 1995-1997: Total catch | 1995-1997: Ratio of retained catch to total catch | 1995-1997: 2015 ITAC Available to trawl C/Ps¹ | 1995-1997: 2015 AFA C/P Side-board limit | 1995-1997: 2016 ITAC Available to trawl C/Ps¹ | 1995-1997: 2016 AFA C/P Side-board limit
Sablefish trawl | BS | 8 | 497 | 0.016 | 567 | 9 | 515 | 8
| AI | 0 | 145 | 0 | 383 | 0 | 348 | 0
Atka mackerel | Central AI A season ² | n/a | n/a | 0.115 | 7,591 | 873 | 7,591 | 873
| Central AI B season ² | n/a | n/a | 0.115 | 7,591 | 873 | 7,591 | 873
| Western AI A season ² | n/a | n/a | 0.2 | 4,689 | 938 | 4,689 | 938
| Western AI B season ² | n/a | n/a | 0.2 | 4,689 | 938 | 4,689 | 938
Rock sole | BSAI | 6,317 | 169,362 | 0.037 | 61,840 | 2,288 | 61,840 | 2,288
Greenland turbot | BS | 121 | 17,305 | 0.007 | 2,081 | 15 | 2,081 | 15
| AI | 23 | 4,987 | 0.005 | 170 | 1 | 170 | 1
Arrowtooth flounder | BSAI | 76 | 33,987 | 0.002 | 18,700 | 37 | 18,700 | 37
Kamchatka flounder | BSAI | 76 | 33,987 | 0.002 | 5,525 | 11 | 5,525 | 11
Flathead sole | BSAI | 1,925 | 52,755 | 0.036 | 21,655 | 780 | 21,655 | 780
Alaska plaice | BSAI | 14 | 9,438 | 0.001 | 15,725 | 16 | 15,725 | 16
Other flatfish | BSAI | 3,058 | 52,298 | 0.058 | 3,077 | 178 | 3,077 | 178
Pacific ocean perch | BS | 12 | 4,879 | 0.002 | 6,818 | 14 | 6,818 | 14
| Eastern AI | 125 | 6,179 | 0.02 | 7,144 | 143 | 7,117 | 142
| Central AI | 3 | 5,698 | 0.001 | 6,251 | 6 | 6,251 | 6
| Western AI | 54 | 13,598 | 0.004 | 8,037 | 32 | 8,037 | 32
Northern rockfish | BSAI | 91 | 13,040 | 0.007 | 2,763 | 19 | 2,763 | 19
Shortraker rockfish | BSAI | 50 | 2,811 | 0.018 | 250 | 5 | 250 | 5
Rougheye rockfish | EBS/EAI | 50 | 2,811 | 0.018 | 149 | 3 | 149 | 3
| CAI/WAI | 50 | 2,811 | 0.018 | 200 | 4 | 200 | 4
Other rockfish | BS | 18 | 621 | 0.029 | 325 | 9 | 325 | 9
| AI | 22 | 806 | 0.027 | 555 | 15 | 555 | 15
Skates | BSAI | 553 | 68,672 | 0.008 | 21,845 | 175 | 21,845 | 175
Sculpins | BSAI | 553 | 68,672 | 0.008 | 3,995 | 32 | 3,995 | 32
Sharks | BSAI | 553 | 68,672 | 0.008 | 125 | 1 | 125 | 1
Squids | BSAI | 73 | 3,328 | 0.022 | 340 | 7 | 340 | 7
Octopuses | BSAI | 553 | 68,672 | 0.008 | 400 | 3 | 400 | 3
¹ Aleutian Islands Pacific ocean perch, and BSAI Atka mackerel, flathead sole, rock sole, and yellowfin sole are multiplied by the remainder of the TAC after the subtraction of the CDQ reserve under § 679.20(b)(1)(ii)(C).
² The seasonal apportionment of Atka mackerel in the open access fishery is 50 percent in the A season and 50 percent in the B season. Listed AFA catcher/processors are limited to harvesting no more than zero in the Eastern Aleutian District and Bering Sea subarea, 20 percent of the annual ITAC specified for the Western Aleutian District, and 11.5 percent of the annual ITAC specified for the Central Aleutian District.

Section 679.64(a)(2) and Tables 40 and 41 of part 679 establish a formula for calculating PSC sideboard limits for listed AFA C/Ps. The basis for these sideboard limits is described in detail in the final rules implementing the major provisions of the AFA (67 FR 79692, December 30, 2002) and Amendment 80 (72 FR 52668, September 14, 2007).

PSC species listed in Table 22 that are caught by listed AFA C/Ps participating in any groundfish fishery other than pollock will accrue against the 2015 and 2016 PSC sideboard limits for the listed AFA C/Ps. Section 679.21(e)(3)(v) authorizes NMFS to close directed fishing for groundfish other than pollock for listed AFA C/Ps once a 2015 or 2016 PSC sideboard limit listed in Table 22 is reached.

Crab or halibut PSC caught by listed AFA C/Ps while fishing for pollock will accrue against the bycatch allowances annually specified for either the midwater pollock or the pollock/Atka mackerel/“other species” fishery categories under regulations at § 679.21(e)(3)(iv).

Table 22—Final 2015 and 2016 BSAI AFA Listed Catcher/Processor Prohibited Species Sideboard Limits
PSC Species and area ¹ | Ratio of PSC catch to total PSC | 2015 and 2016 PSC available to trawl vessels after subtraction of PSQ ² | 2015 and 2016 catcher/processor sideboard limit ²
Halibut mortality BSAI | n/a | n/a | 286
Red king crab zone 1 | 0.007 | 86,621 | 606
C. opilio (COBLZ) | 0.153 | 9,833,695 | 1,504,555
C. bairdi Zone 1 | 0.14 | 875,140 | 122,520
C. bairdi Zone 2 | 0.05 | 2,652,210 | 132,611
¹ Refer to § 679.2 for definitions of areas.
² Halibut amounts are in metric tons of halibut mortality. Crab amounts are in numbers of animals.

AFA Catcher Vessel Sideboard Limits

Pursuant to § 679.64(a), the Regional Administrator is responsible for restricting the ability of AFA CVs to engage in directed fishing for groundfish species other than pollock to protect participants in other groundfish fisheries from adverse effects resulting from the AFA and from fishery cooperatives in the pollock directed fishery. Section 679.64(b) establishes a formula for setting AFA CV groundfish and PSC sideboard limits for the BSAI. The basis for these sideboard limits is described in detail in the final rules implementing the major provisions of the AFA (67 FR 79692, December 30, 2002) and Amendment 80 (72 FR 52668, September 14, 2007). Tables 23 and 24 list the 2015 and 2016 AFA CV sideboard limits.

All catch of groundfish sideboard species made by non-exempt AFA CVs, whether as targeted catch or incidental catch, will be deducted from the 2015 and 2016 sideboard limits listed in Table 23.

Table 23—Final 2015 and 2016 American Fisheries Act Catcher Vessel BSAI Groundfish Sideboard Limits
[Amounts are in metric tons]
Species/Gear | Fishery by area/season | Ratio of 1995-1997 AFA CV catch to 1995-1997 TAC | 2015 Initial TAC ¹ | 2015 AFA Catcher vessel sideboard limits | 2016 Initial TAC ¹ | 2016 AFA catcher vessel sideboard limits
Pacific cod/Jig gear | BSAI | 0 | n/a | 0 | n/a | 0
Pacific cod/Hook-and-line CV ≥60 feet LOA | BSAI Jan 1-Jun 10 | 0.0006 | 226 | 0 | 226 | 0
| BSAI Jun 10-Dec 31 | 0.0006 | 217 | 0 | 217 | 0
Pacific cod pot gear CV | BSAI Jan 1-Jun 10 | 0.0006 | 9,507 | 6 | 9,507 | 6
| BSAI Sept 1-Dec 31 | 0.0006 | 9,134 | 5 | 9,134 | 5
Pacific cod CV ≤60 feet LOA using hook-and-line or pot gear | BSAI | 0.0006 | 4,438 | 3 | 4,438 | 3
Pacific cod trawl gear CV | BSAI Jan 20-Apr 1 | 0.8609 | 36,426 | 31,359 | 36,426 | 31,359
| BSAI Apr 1-Jun 10 | 0.8609 | 5,415 | 4,662 | 5,415 | 4,662
| BSAI Jun 10-Nov 1 | 0.8609 | 7,384 | 6,357 | 7,384 | 6,357
Sablefish trawl gear | BS | 0.0906 | 567 | 51 | 515 | 47
| AI | 0.0645 | 383 | 25 | 348 | 22
Atka mackerel | Eastern AI/BS Jan 1-Jun 10 | 0.0032 | 12,056 | 39 | 12,197 | 39
| Eastern AI/BS Jun 10-Nov 1 | 0.0032 | 12,056 | 39 | 12,197 | 39
| Central AI Jan 1-Jun 10 | 0.0001 | 7,590 | 1 | 7,591 | 1
| Central AI Jun 10-Nov 1 | 0.0001 | 7,590 | 1 | 7,591 | 1
| Western AI Jan 1-Jun 10 | 0 | 4689 | 0 | 4689 | 0
| Western AI Jun 10-Nov 1 | 0 | 4689 | 0 | 4689 | 0
Rock sole | BSAI | 0.0341 | 61,840 | 2,109 | 61,840 | 2,109
Greenland turbot | BS | 0.0645 | 2,081 | 134 | 2,081 | 134
| AI | 0.0205 | 170 | 3 | 170 | 3
Arrowtooth flounder | BSAI | 0.069 | 18,700 | 1,290 | 18,700 | 1,290
Kamchatka flounder | BSAI | 0.069 | 5,525 | 381 | 5,525 | 381
Alaska plaice | BSAI | 0.0441 | 15,725 | 693 | 15,725 | 693
Other flatfish | BSAI | 0.0441 | 3,077 | 136 | 3,077 | 136
Flathead sole | BS | 0.0505 | 21,655 | 1,094 | 21,655 | 1,094
Pacific ocean perch | BS | 0.1 | 6,818 | 682 | 6,818 | 682
| Eastern AI | 0.0077 | 7,144 | 55 | 7,117 | 55
| Central AI | 0.0025 | 6,251 | 16 | 6,251 | 16
| Western AI | 0 | 8,037 | 0 | 8,037 | 0
Northern rockfish | BSAI | 0.0084 | 2,763 | 23 | 2,763 | 23
Shortraker rockfish | BSAI | 0.0037 | 250 | 1 | 250 | 1
Rougheye rockfish | EBS/EAI | 0.0037 | 149 | 1 | 149 | 1
| CAI/WAI | 0.0037 | 200 | 1 | 200 | 1
Other rockfish | BS | 0.0048 | 325 | 2 | 325 | 2
| AI | 0.0095 | 555 | 5 | 555 | 5
Skates | BSAI | 0.0541 | 21,845 | 1,182 | 21,845 | 1,182
Sculpins | BSAI | 0.0541 | 3,995 | 216 | 3,995 | 216
Sharks | BSAI | 0.0541 | 125 | 7 | 125 | 7
Squids | BSAI | 0.3827 | 340 | 130 | 340 | 130
Octopuses | BSAI | 0.0541 | 400 | 22 | 400 | 22
¹ Aleutians Islands Pacific ocean perch, and BSAI Atka mackerel, flathead sole, and rock sole are multiplied by the remainder of the TAC of that species after the subtraction of the CDQ reserve under § 679.20(b)(1)(ii)(C).

Halibut and crab PSC limits listed in Table 24 that are caught by AFA CVs participating in any groundfish fishery for groundfish other than pollock will accrue against the 2015 and 2016 PSC sideboard limits for the AFA CVs. Sections 679.21(d)(7) and 679.21(e)(3)(v) authorize NMFS to close directed fishing for groundfish other than pollock for AFA CVs once a 2015 or 2016 PSC sideboard limit listed in Table 24 is reached. The PSC that is caught by AFA CVs while fishing for pollock in the BSAI will accrue against the bycatch allowances annually specified for either the midwater pollock or the pollock/Atka mackerel/“other species” fishery categories under regulations at § 679.21(e)(3)(iv).

Table 24—Final 2015 and 2016 American Fisheries Act Catcher Vessel Prohibited Species Catch Sideboard Limits for the BSAI ¹
PSC Species and area ¹ | Target fishery category ² | AFA Catcher vessel PSC sideboard limit ratio | 2015 and 2016 PSC limit after subtraction of PSQ reserves ³ | 2015 and 2016 AFA catcher vessel PSC sideboard limit ³
Halibut | Pacific cod trawl | n/a | n/a | 887
| Pacific cod hook-and-line or pot | n/a | n/a | 2
| Yellowfin sole total | n/a | n/a | 101
| Rock sole/flathead sole/other flatfish ⁴ | n/a | n/a | 228
| Greenland turbot/arrowtooth/sablefish ⁵ | n/a | n/a | 0
| Rockfish | n/a | n/a | 2
| Pollock/Atka mackerel/other species ⁶ | n/a | n/a | 5
Red king crab Zone 1 | n/a | 0.299 | 86,621 | 25,900
C. opilio COBLZ | n/a | 0.168 | 9,833,695 | 1,652,061
C. bairdi Zone 1 | n/a | 0.33 | 875,140 | 288,796
C. bairdi Zone 2 | n/a | 0.186 | 2,652,210 | 493,311
¹ Refer to § 679.2 for definitions of areas.
² Target fishery categories are defined in regulation at § 679.21(e)(3)(iv).
³ Halibut amounts are in metric tons of halibut mortality. Crab amounts are in numbers of animals.
⁴ “Other flatfish” for PSC monitoring includes all flatfish species, except for halibut (a prohibited species), flathead sole, Greenland turbot, rock sole, yellowfin sole, Kamchatka flounder, and arrowtooth flounder.
⁵ Arrowtooth for PSC monitoring includes Kamchatka flounder.
⁶ “Other species” for PSC monitoring includes skates, sculpins, sharks, squids, and octopuses.

AFA Catcher/Processor and Catcher Vessel Sideboard Directed Fishing Closures

Based on historical catch patterns, the Regional Administrator has determined that many of the AFA C/P and CV sideboard limits listed in Tables 25 and 26 are necessary as incidental catch to support other anticipated groundfish fisheries for the 2015 and 2016 fishing years. In accordance with § 679.20(d)(1)(iv), the Regional Administrator establishes the sideboard limits listed in Tables 25 and 26 as DFAs. Because many of these DFAs will be reached before the end of 2015, the Regional Administrator has determined, in accordance with § 679.20(d)(1)(iii), that NMFS is prohibiting directed fishing by listed AFA C/Ps for the species in the specified areas set out in Table 25, and directed fishing by non-exempt AFA CVs for the species in the specified areas set out in Table 26.

Table 25—Final 2015 and 2016 American Fisheries Act Listed Catcher/Processor Sideboard Directed Fishing Closures ¹
[Amounts are in metric tons]
Species | Area | Gear types | 2015 Sideboard limit | 2016 Sideboard limit
Sablefish trawl | BS | trawl | 9 | 8
| AI | trawl | 0 | 0
Rock sole | BSAI | all | 2,288 | 2,288
Greenland turbot | BS | all | 15 | 15
| AI | all | 1 | 1
Arrowtooth flounder | BSAI | all | 37 | 37
Kamchatka flounder | BSAI | all | 11 | 11
Alaska plaice | BSAI | all | 16 | 16
Other flatfish ² | BSAI | all | 178 | 178
Flathead sole | BSAI | all | 780 | 780
Pacific ocean perch | BS | all | 14 | 14
| Eastern AI | all | 143 | 142
| Central AI | all | 6 | 6
| Western AI | all | 32 | 32
Northern rockfish | BSAI | all | 19 | 19
Shortraker rockfish | BSAI | all | 5 | 5
Rougheye rockfish | EBS/EAI | all | 3 | 3
| CAI/WAI | all | 4 | 4
Other rockfish ³ | BS | all | 9 | 9
| AI | all | 15 | 15
Skates | BSAI | all | 175 | 175
Sculpins | BSAI | all | 32 | 32
Sharks | BSAI | all | 1 | 1
Squids | BSAI | all | 7 | 7
Octopuses | BSAI | all | 3 | 3
¹ Maximum retainable amounts may be found in Table 11 to 50 CFR part 679.
² “Other flatfish” includes all flatfish species, except for halibut, Alaska plaice, flathead sole, Greenland turbot, rock sole, yellowfin sole, Kamchatka flounder, and arrowtooth flounder.
³ “Other rockfish” includes all Sebastes and Sebastolobus species except for Pacific ocean perch, northern rockfish, dark rockfish, shortraker rockfish, and rougheye rockfish.

Table 26—Final 2015 and 2016 American Fisheries Act Catcher Vessel Sideboard Directed Fishing Closures ¹
[Amounts are in metric tons]
Species | Area | Gear types | 2015 Sideboard limit | 2016 Sideboard limit
Pacific cod | BSAI | hook-and-line CV ≥60 feet LOA | 0 | 0
| BSAI | pot CV ≥60 feet LOA | 11 | 11
| BSAI | hook-and-line or pot CV ≤60 feet LOA | 3 | 3
| BSAI | jig | 0 | 0
Sablefish | BS | trawl | 51 | 47
| AI | trawl | 25 | 22
Atka mackerel | Eastern AI/BS | all | 78 | 78
| Central AI | all | 2 | 2
| Western AI | all | 0 | 0
Greenland turbot | BS | all | 134 | 134
| AI | all | 3 | 3
Arrowtooth flounder | BSAI | all | 1,290 | 1,290
Kamchatka flounder | BSAI | all | 381 | 381
Alaska plaice | BSAI | all | 693 | 693
Other flatfish ² | BSAI | all | 136 | 136
Flathead sole | BSAI | all | 1,094 | 1,094
Rock sole | BSAI | all | 2,109 | 2,109
Pacific ocean perch | BS | all | 682 | 682
| Eastern AI | all | 55 | 55
| Central AI | all | 16 | 16
| Western AI | all | 0 | 0
Northern rockfish | BSAI | all | 23 | 23
Shortraker rockfish | BSAI | all | 1 | 1
Rougheye rockfish | BS/EAI | all | 1 | 1
| CAI/WAI | all | 1 | 1
Other rockfish ³ | BS | all | 2 | 2
| AI | all | 5 | 5
Skates | BSAI | all | 1,182 | 1,182
Sculpins | BSAI | all | 216 | 216
Sharks | BSAI | all | 7 | 7
Squids | BSAI | all | 130 | 130
Octopuses | BSAI | all | 22 | 22
¹ Maximum retainable amounts may be found in Table 11 to 50 CFR part 679.
² “Other flatfish” includes all flatfish species, except for halibut, Alaska plaice, flathead sole, Greenland turbot, rock sole, yellowfin sole, Kamchatka flounder, and arrowtooth flounder.
³ “Other rockfish” includes all Sebastes and Sebastolobus species except for Pacific ocean perch, northern rockfish, dark rockfish, shortraker rockfish, and rougheye rockfish.

Response to Comments

NMFS received five letters with 13 comments.

Comment 1: The Pacific halibut population is in steep decline yet NMFS is proposing to authorize the removal of millions of pounds of halibut bycatch in the Bering Sea groundfish fishery.

Response: The final 2015 and 2016 harvest specifications for the BSAI publishes regulatory halibut PSC limits that are imposed on the federal groundfish fisheries in the BSAI. The halibut PSC limits for the BSAI groundfish fisheries are described in the FMP for Groundfish of the BSAI management area and the regulations at 50 CFR 679.21(e) implement the BSAI PSC limits. The Council and NMFS establish halibut PSC limits to constrain the amount of bycatch taken in the groundfish fisheries. The halibut PSC limits are not allowances for halibut bycatch in the groundfish fishery; rather, halibut PSC limits impose maximum limits on the amount of halibut bycatch mortality that may be taken by the groundfish fisheries. When a halibut PSC limit is reached, further groundfish fishing with specific types of gear and modes of operation is prohibited in that area. The Council and NMFS have initiated a separate action to reduce halibut PSC limits in the BSAI to minimize halibut bycatch in the groundfish fishery to the extent practicable. See response to Comment 2.

Comment 2: The Magnuson-Stevens Act requires that NMFS, to the extent practicable: (A) Minimize bycatch; and (B), minimize the mortality of bycatch which cannot be avoided. Before finalizing the 2015 and 2016 harvest specifications for the BSAI, NMFS must minimize bycatch of halibut in the groundfish fisheries consistent with its statutory obligations.

Response: The Council and NMFS are committed to minimizing halibut bycatch in the BSAI to the extent practicable. Section 3.6.2.1.4 of the FMP states that annual BSAI-wide Pacific halibut bycatch mortality limits for trawl and non-trawl gear fisheries will be established in regulations and may be amended by regulatory amendment. Pursuant to § 679.21(e)(1)(iv), (e)(3), and (e)(2), the 2015 and 2016 BSAI halibut PSC limits are 3,525 mt for trawl fisheries and 900 mt for the non-trawl fisheries. The Council has initiated action to consider revising regulations to reduce halibut PSC limits in the BSAI groundfish fisheries consistent with Magnuson-Stevens Act obligations to minimize bycatch to the extent practicable and to achieve, on a continuing basis, optimum yield from the groundfish fisheries. Pursuant to section 3.6.2.1.4 of the FMP, the Secretary, after consultation with the Council, will consider the following information when evaluating measures to minimize halibut bycatch in the BSAI fisheries:

1. Estimated change in halibut biomass and stock condition;

2. potential impacts on halibut stocks and fisheries;

3. potential impacts on groundfish fisheries;

4. estimated bycatch mortality during prior years;

5. expected halibut bycatch mortality;

6. methods available to reduce halibut bycatch mortality;

7. the cost of reducing halibut bycatch mortality; and

8. other biological and socioeconomic factors that affect the appropriateness of a specific bycatch mortality limit in terms of FMP objectives.

The Council is scheduled to consider final action to reduce halibut PSC limits later in 2015.

Comment 3: In the BSAI, millions of pounds of Pacific halibut are killed and are not utilized.

Response: Consistent with National Standards 1 and 9, the Council and NMFS use halibut PSC mortality limits to minimize halibut bycatch in the groundfish fisheries to the extent practicable, while achieving, on a continuing basis, the optimum yield from the fisheries. The Council has designated Pacific halibut as “prohibited species” in the groundfish fisheries, which fishermen are required by regulation to discard.

NMFS acknowledges that recent declines in the exploitable biomass of halibut and recent decreases in the Pacific halibut catch limits set by the IPHC for the directed BSAI halibut fisheries have raised concerns about the levels of halibut PSC by the commercial groundfish trawl and hook-and-line sectors. The Council has initiated action to consider revising halibut PSC limits in the BSAI groundfish fisheries consistent with the Magnuson-Stevens Act obligations to minimize bycatch to the extent practicable while achieving, on a continuing basis, optimum yield from the groundfish fisheries. The Council will review a draft Environmental Assessment and Regulatory Impact Review at its February 2015 meeting and is scheduled to take final action on halibut PSC limit reductions later in 2015.

Comment 4: The catch limits of Pacific halibut in the North Pacific Ocean and the BSAI have been reduced in recent years by the IPHC due to low stock abundance. The IPHC 2015 preliminary directed halibut fishery catch limits are much less than the anticipated 2015 halibut PSC in the BSAI. Bycatch mortality will almost entirely preclude all directed fisheries in some areas.

Response: During the 2015 annual IPHC meeting, the IPHC adopted catch limits in area 4A that are increased from the 2014 catch limits in that area. The IPHC adopted catch limits in areas 4B, 4C, 4D, and 4E that are unchanged from 2014. Consistent with National Standards 1 and 9 of the Magnuson-Stevens Act, NMFS established halibut PSC limits in regulation to minimize halibut bycatch to the extent practicable while also permitting optimum yield from the groundfish fisheries. As described in response to Comments 2 and 3, the Council has initiated action to consider revising regulations to reduce halibut PSC limits in the BSAI groundfish fisheries consistent with Magnuson-Stevens Act obligations to minimize bycatch to the extent practicable and to achieve, on a continuing basis, optimum yield from the groundfish fisheries.

Comment 5: Under the Magnuson-Stevens Act, NMFS must conserve and manage the Pacific halibut stock and prevent the overfishing of Pacific halibut. This must be addressed in the FMP and in the final groundfish harvest specifications.

Response: NMFS and the Council manage Pacific halibut under the Halibut Act. Under the Magnuson-Stevens Act, NMFS and the Council manage the groundfish fisheries to minimize halibut bycatch to the extent practicable using the PSC limits established in Federal regulations. Pacific halibut are classified as a prohibited species in the FMP and not as a “stock in the fishery.” Therefore, Section 303(a) of the Magnuson-Stevens Act does not apply to Pacific halibut.

Comment 6: NMFS has not provided NEPA documents to address the environmental impacts of halibut bycatch on the marine environment or the environmental impact of reduced Pacific halibut stocks. NEPA compels Federal agencies to evaluate prospectively the environmental impacts of proposed actions that they carry out, fund, or authorize. NMFS has relied on an EIS it prepared in 2007. Since that time, the halibut stock has lost 50 percent of its spawning biomass and the commercial harvest of halibut has declined more than 60 percent. NMFS did not contemplate such circumstances in the 2007 EIS.

Response: NMFS agrees that there have been changes in halibut abundance and the halibut fisheries, as well as advancements in scientific understanding since the Harvest Specifications EIS. NMFS has provided NEPA documents to address the impacts of halibut bycatch on the marine environment. As explained in this preamble, section 679.21(e) sets forth the BSAI halibut PSC limits. NMFS set this halibut PSC limit under a separate action with a supporting Environmental Assessments that analyzed the impacts of halibut bycatch on halibut stocks and the human environment. The Council has initiated action to consider revising regulations to reduce halibut PSC limits in the BSAI for groundfish fisheries. The Council will review a draft Environmental Assessment and Regulatory Impact Review at its February 2015 meeting and is scheduled to take final action on halibut PSC reductions later in 2015. This EA will analyze the impacts of the halibut bycatch in the BSAI groundfish fishery on Pacific halibut stocks.

NMFS prepared a supplementary information report to evaluate the need to prepare a Supplemental EIS (SEIS) for the 2015/2016 groundfish harvest specifications. An SEIS should be prepared if—

1. the agency makes substantial changes in the proposed action that are relevant to environmental concerns, or

2. significant new circumstances or information exist relevant to environmental concerns and bearing on the proposed action or its impacts (40 CFR 1502.9(c)(1)).

The 2007 Harvest Specifications EIS concluded that halibut mortality in the groundfish fisheries is taken into account when the IPHC sets commercial halibut quotas to prevent adverse impacts on the halibut stock. The 2015 supplementary information report further explains that the IPHC comprehensively assesses the impacts of fishing mortality on stock abundance on an annual basis in its stock assessment process. Each year, the IPHC assesses the status of the halibut stocks and sets the constant exploitation yield (CEY), which is the amount of halibut harvest that is determined to be sustainable in a year. The total CEY is calculated by multiplying a target harvest rate by the total exploitable biomass and represents the sum of all halibut removals. After deducting non-directed fishery removals (e.g., halibut PSC in the groundfish fisheries, wastage in halibut fisheries, recreational harvest, and subsistence use), the remainder is allocated to the directed commercial hook-and-line fishery. The CEY therefore takes into account the change in halibut abundance. Therefore, the impacts of halibut PSC in the BSAI groundfish fisheries are unlikely to have effects on the halibut resource in a manner not previously considered in the 2007 Harvest Specifications EIS.

After reviewing the information in the supplementary information report (see ADDRESSES) and presented in the SAFE reports (see ADDRESSES; SAFE reports, and the information they contain that is used in the harvest specifications, is explained above in this preamble under the heading “Acceptable Biological Catch (ABC) and TAC Harvest Specifications”), NMFS determined that (1) the 2015/2016 harvest specifications, which were set according to the preferred harvest strategy described in the 2007 EIS, do not constitute a change in the action; and (2) the information presented does not indicate that there are significant new circumstances or information relevant to environmental concerns and bearing on the proposed action or its impacts. Additionally, the 2015/2016 harvest specifications will result in environmental impacts within the scope of those analyzed and disclosed in the EIS. Therefore, supplemental NEPA documentation is not necessary to implement the 2015/2016 harvest specifications.

Comment 7: The BSAI halibut PSC limit has remained almost the same since the late 1980s.

Response: With the implementation of Amendment 57 (65 FR 31105, May 16, 2000) and Amendment 80 (72 FR 52668, September 14, 2007), the Pacific halibut PSC limit was reduced by 250 mt from the halibut PSC limits set in regulations. However, NMFS agrees that the Pacific halibut PSC limits have largely been unchanged in recent decades. The halibut PSC limits are for bycatch in groundfish fisheries, which have largely remained stable in recent decades. As described in response to Comment 2, the halibut PSC limits are established in regulation and may be changed through regulatory amendment. The Council has initiated action to consider revising halibut PSC limits in the BSAI, consistent with the National Standard 9 obligations to minimize bycatch to the extent practicable.

Comment 8: The 2015 groundfish harvest specifications do not address cultural, fisheries, ecological, and subsistence impacts of discarded halibut PSC.

Response: These harvest specifications specify halibut PSC limits among fisheries and by season. However, as described in response to Comment 2, the halibut PSC limits are established in regulation and may be changed through regulatory amendment. The Council has initiated action to consider revising halibut PSC limits in the BSAI, consistent with the National Standard 9 obligations to minimize bycatch to the extent practicable. NMFS expects the Council will address cultural, fisheries, ecological, and subsistence impacts through that action.

Comment 9: NMFS and fishery participants must work more diligently to reduce bycatch, prevent waste of fish, and protect fish stocks.

Response: As noted in response to Comment 2, NMFS and the Council are committed to minimizing halibut bycatch in the BSAI to the extent practicable. Current halibut PSC limits are established in regulation and may be changed by a regulatory amendment. The Council has initiated action to consider revising halibut PSC limits in the BSAI, consistent with the National Standard 9 obligation to minimize bycatch to the extent practicable.

Comment 10: NMFS has allowed almost every groundfish species in the BSAI to be overfished.

Response: NMFS disagrees. In the most recent fishing year, no species or species complex of groundfish in the BSAI reached an OFL, and no species or species complex of groundfish is in overfishing status; see SAFE reports.

Comment 11: Temporary closures should be put in place to prevent sea lions from being shot by commercial fishermen. A one million dollar fine should be imposed for every sea lion shot by commercial fishermen.

Response: Fishery closures and fines to protect sea lions are outside the scope of this action. NOAA has a Penalty Policy and Summary Settlement Schedules for the assessment of civil administrative penalties and permit sanctions under the statutes and regulations enforced by NOAA, including violations of the Marine Mammal Protection Act and the Endangered Species Act. See http://www.gc.noaa.gov/enforce-office3.html.

Comment 12: The BOF must produce downward quota adjustments for fisheries.

Response: The State and the BOF has jurisdiction to manage fisheries within Alaska state waters. In recommending harvest limits for the Federal commercial groundfish fisheries, the Council considers state GHL harvest limits when distribution and range of federally fished groundfish stocks extend between Federal and state waters. The Council recommends federal TACs for such stocks so that the sum of state and Federal harvest limits does not exceed ABC limits for such stocks. However, management measures implemented by the BOF in state waters are not within the jurisdiction of the Council.

Comment 13: The ICAs for several species should be reduced to prevent overfishing. Specifically, the Bering Sea pollock ICA should be reduced to 23,288 mt, the flathead sole ICA to 1,000 mt, the Pacific ocean perch ICA to ten mt, and the yellowfin sole ICA to one mt.

Response: NMFS disagrees. The Regional Administrator establishes incidental catch allowances to account for projected incidental catch of species and species complexes by vessels engaged in directed fishing in other groundfish fisheries. Sufficient ICAs are needed to prevent exceeding TACs, ABCs, and OFLs of groundfish species and species complexes. Reducing the ICAs would leave these stocks more vulnerable to overfishing.

Classification

NMFS has determined that these final harvest specifications are consistent with the FMP and with the Magnuson-Stevens Act and other applicable laws.

This action is authorized under 50 CFR 679.20 and is exempt from review under Executive Orders 12866 and 13563.

NMFS prepared an EIS that covers this action (see ADDRESSES) and made it available to the public on January 12, 2007 (72 FR 1512). On February 13, 2007, NMFS issued the Record of Decision (ROD) for the EIS. In January 2015, NMFS prepared a Supplemental Information Report (SIR) for this action. Copies of the EIS, ROD, and SIR for this action are available from NMFS (see ADDRESSES). The EIS analyzes the environmental consequences of the groundfish harvest specifications and alternative harvest strategies on resources in the action area. The EIS found no significant environmental consequences of this action and its alternatives. The SIR evaluates the need to prepare a Supplemental EIS (SEIS) for the 2015 and 2016 groundfish harvest specifications.

An SEIS should be prepared if (1) the agency makes substantial changes in the proposed action that are relevant to environmental concerns; or (2) significant new circumstances or information exist relevant to environmental concerns and bearing on the proposed action or its impacts (40 CFR 1502.9(c)(1)). After reviewing the information contained in the SIR and SAFE reports, the Regional Administrator has determined that (1) approval of the 2015 and 2016 harvest specifications, which were set according to the preferred harvest strategy in the EIS, do not constitute a change in the action; and (2) there are no significant new circumstances or information relevant to environmental concerns and bearing on the action or its impacts. Additionally, the 2015 and 2016 harvest specifications will result in environmental impacts within the scope of those analyzed and disclosed in the EIS. Therefore, supplemental NEPA documentation is not necessary to implement the 2015 and 2016 harvest specifications.

Pursuant to section 604 of the Regulatory Flexibility Act (RFA), 5 U.S.C. 601, et seq., a FRFA was prepared for this action. The FRFA incorporates the Initial Regulatory Flexibility Analysis (IRFA), and includes a summary of the significant issues raised by public comments in response to the IRFA, as well as NMFS' responses to those comments. A summary of the analyses completed to support the action is also included in the FRFA.

A copy of the FRFA prepared for this final rule is available from NMFS (see ADDRESSES). A description of this action, its purpose, and its legal basis are contained at the beginning of the preamble to this final rule and are not repeated here.

NMFS published the proposed rule on December 8, 2014 (79 FR 72571). The rule was accompanied by an IRFA, which was summarized in the proposed rule. The comment period closed on January 7, 2015. No comments were received on the IRFA.

The entities directly regulated by this action are those that receive allocations of groundfish in the exclusive economic zone of the BSAI, and in parallel fisheries within State of Alaska waters, during the annual harvest specifications process. These directly regulated entities include the groundfish CVs and C/Ps active in these areas. Direct allocations of groundfish are also made to certain organizations, including the CDQ groups, AFA C/P and inshore CV sectors, Aleut Corporation, and Amendment 80 cooperatives. These entities are, therefore, also considered directly regulated.

On June 12, 2014, the Small Business Administration issued an interim final rule revising the small business size standards for several industries effective July 14, 2014 (79 FR 33647, June 12, 2014). The rule increased the size standard for Finfish Fishing from $19.0 million to $20.5 million, Shellfish Fishing from $5.0 million to $5.5 million, and Other Marine Fishing from $7.0 million to $7.5 million. Fishing vessels are considered small entities if their total annual gross receipts, from all their activities combined, are less than $25.0 million. In 2013, there were 353 individual C/Vs with total gross revenues less than or equal to $20.5 million. Some of these vessels are members of AFA inshore pollock cooperatives, GOA rockfish cooperatives, or crab rationalization cooperatives, and, since under the RFA it is the aggregate gross receipts of all participating members of the cooperative that must meet the “under $20.5 million” threshold, they are considered to be large entities within the meaning of the RFA. Thus, the estimate of 353 C/Vs may be an overstatement of the number of small entities. Average gross revenues were $320,000 for small hook-and-line vessels, $1.25 million for small pot vessels, and $3.56 million for small trawl vessels. Revenue data for catcher/processors is confidential; however, in 2013, NMFS estimates that there were four catcher/processor small entities with gross receipts less than $20.5.

Through the CDQ program, the Council and NMFS allocate a portion of the BSAI groundfish TACs, and halibut and crab PSC limits to 65 eligible Western Alaska communities. These communities work through six non-profit CDQ groups, and are required to use the proceeds from the CDQ allocations to start or support activities that will result in ongoing, regionally based, commercial fishery or related businesses. The CDQ groups receive allocations through the harvest specifications process, and are directly regulated by this action, but the 65 communities are not directly regulated. Because they are nonprofit entities that are independently owned and operated, and are not dominant in their field, the CDQ groups are considered small entities for RFA purposes.

The AFA and Amendment 80 fisheries cooperatives are directly regulated because they receive allocations of TAC through the harvest specifications process. However, the Freezer Longliner Conservation Cooperative (FLCC), a voluntary private cooperative that became fully effective in 2010, is not considered to be directly regulated. The FLCC manages a catch share program among its members, but it does not receive an allocation under the harvest specifications. NMFS allocates TAC to the freezer longline sector, and the cooperative members voluntarily allocate this TAC among themselves via the FLCC. The AFA and Amendment 80 cooperatives are large entities, since they are affiliated with firms with joint revenues of more than $25 million.

The Aleut Corporation is an Alaska Native Corporation that receives an allocation of pollock in the Aleutian Islands. The Aleut Corporation is a holding company and evaluated according to the Small Business Administration criteria for Office or Other Holding Companies, at 13 CFR 121.201, which uses a threshold of $7.5 million gross annual receipts threshold for small entities. The Aleut Corporation revenues exceed this threshold, and the Aleut Corporation is considered to be a large entity. This determination follows the analysis in the RFA certification for BSAI FMP.

This action does not modify recordkeeping or reporting requirements.

The significant alternatives were those considered as alternative harvest strategies when the Council selected its preferred harvest strategy (Alternative 2) in December 2006. These included the following:

• Alternative 1: Set TAC to produce fishing mortality rates, F, that are equal to maxFABC, unless the sum of the TAC is constrained by the OY established in the FMPs. This is equivalent to setting TAC to produce harvest levels equal to the maximum permissible ABC, as constrained by OY. The term “maxFABC” refers to the maximum permissible value of FABC under Amendment 56 to the groundfish FMPs. Historically, the TAC has been set at or below the ABC; therefore, this alternative represents a likely upper limit for setting the TAC within the OY and ABC limits.

• Alternative 3: For species in Tiers 1, 2, and 3, set TAC to produce F equal to the most recent 5-year average actual F. For species in Tiers 4, 5, and 6, set TAC equal to the most recent 5-year average actual catch. For stocks with a high level of scientific information, TAC would be set to produce harvest levels equal to the most recent 5-year average actual fishing mortality rates. For stocks with insufficient scientific information, TAC would be set equal to the most recent 5-year average actual catch. This alternative recognizes that for some stocks, catches may fall well below ABC, and recent average F may provide a better indicator of actual F than FABC does.

• Alternative 4: (1) Set TAC for rockfish species in Tier 3 at F75%. Set TAC for rockfish species in Tier 5 at F = 0.5M. Set spatially explicit TAC for shortraker and rougheye rockfish in the BSAI. (2) Taking the rockfish TAC as calculated above, reduce all other TAC by a proportion that does not vary across species, so that the sum of all TAC, including rockfish TAC, is equal to the lower bound of the area OY (1,400,000 mt in the BSAI). This alternative sets conservative and spatially explicit TAC for rockfish species that are long-lived and late to mature, and sets conservative TAC for the other groundfish species.

• Alternative 5: Set TAC at zero.

Alternative 2 is the preferred alternative chosen by the Council: Set TAC that fall within the range of ABC recommended through the Council harvest specifications process and TACs recommended by the Council. Under this scenario, F is set equal to a constant fraction of maxFABC. The recommended fractions of maxFABC may vary among species or stocks, based on other considerations unique to each. This is the method for determining TAC that has been used in the past.

Alternatives 1, 3, 4, and 5 do not meet the objectives of this action, although they have a smaller adverse economic impact on small entities than the preferred alternative. The Council rejected these alternatives as harvest strategies in 2006, and the Secretary of Commerce did so in 2007. Alternative 1 would lead to TAC limits whose sum exceeds the fishery OY, which is set out in statute and the FMP. As shown in Table 1 and Table 2, the sum of ABCs in 2015 and 2016 would be 2,848,454 and 2,731,897 million mt, respectively. Both of these are substantially in excess of the fishery OY for the BSAI. This result would be inconsistent with the objectives of this action, in that it would violate the Consolidated Appropriations Act of 2004, Pub. L. 108-199, Sec. 803(c), and the FMP for the BSAI groundfish fishery, which both set a 2 million mt maximum harvest for BSAI groundfish.

Alternative 3 selects harvest rates based on the most recent 5 years' worth of harvest rates (for species in Tiers 1 through 3) or for the most recent 5 years' worth of harvests (for species in Tiers 4 through 6). This alternative is also inconsistent with the objectives of this action, because it does not take into account the most recent biological information for this fishery.

Alternative 4 would lead to significantly lower harvests of all species to reduce TAC from the upper end of the OY range in the BSAI, to its lower end. This result would lead to significant reductions in harvests of species by small entities. While reductions of this size could be associated with offsetting price increases, the size of these increases is very uncertain, and NMFS has no confidence that they would be sufficient to offset the volume decreases and leave revenues unchanged. Thus, this action would have an adverse economic impact on small entities, compared to the preferred alternative.

Alternative 5, which sets all harvests equal to zero, may also address conservation issues, but would have a significant adverse economic impact on small entities.

Impacts on marine mammals resulting from fishing activities conducted under this rule are discussed in the EIS (see ADDRESSES).

In December 2014, the Council adopted separate Pacific cod harvest specifications for the Aleutian Islands and the Bering Sea in the 2015 and 2016 fishing years. While separate OFLs, ABCs, and TACs, have been created for the Aleutian Islands and for the Bering Sea, the actual sector allocations (except CDQ allocations) remain BSAI-wide allocations. Sector allocations are calculated as a percent of the summed Aleutian Island and Bering Sea TACs, after adjustments are made to account for CDQ allocations. Because sector allocations (except CDQ allocations) continue to be defined BSAI-wide, sectors remain free to redeploy between the two areas. However, if the non-CDQ portion of the TAC in either sub-area is reached, NMFS will close directed fishing for Pacific cod in that subarea. Thus if the resources in one of the areas is fully utilized, one sector will not be able to increase its harvest, unless at the expense of another sector's harvest.

It is possible that in some years an Aleutian Island-specific Pacific cod TAC, in combination with a deduction from the ABC for a GHL fishery, and a deduction for an ICA, may leave the Aleutian Islands TAC too small to permit a directed fishery. The ultimate impact of the Pacific cod split will depend on policy decisions made by the Council and the Secretary of Commerce. In the 10 years since the first year of the baseline period for this analysis (2004), the BSAI Pacific cod TAC was only set equal to the ABC in 2 years. There may be flexibility for the Council to offset anticipated Aleutian Island production limits by setting the Aleutian Islands TAC less than the ABC, and the Bering Sea TAC equal to the ABC. The 2 million metric ton groundfish optimum yield is the sum of the BSAI TACs, so a decrease in the Aleutian Islands TAC, coupled with an equal increase in the Bering sea TAC, would leave the aggregate BSAI Pacific cod TAC unchanged, and would not require reductions in TACs for other species so as to comply with the 2 million metric ton optimum yield limit.

Pursuant to 5 U.S.C. 553(d)(3), the Assistant Administrator for Fisheries, NOAA, finds good cause to waive the 30-day delay in effectiveness for this rule, because delaying this rule is contrary to the public interest. Plan Team review occurred in November 2014, and Council consideration and recommendations occurred in December 2014. Accordingly, NMFS' review could not begin until after the December 2014 Council meeting, and after the public had time to comment on the proposed action. If this rule's effectiveness is delayed, fisheries that might otherwise remain open under these rules may prematurely close based on the lower TACs established in the final 2014 and 2015 harvest specifications (79 FR 12108, March 4, 2014). If implemented immediately, this rule would allow these fisheries to continue fishing without worrying about a potential closure because the new TAC limits are higher than the ones under which they are currently fishing. Certain fisheries, such as those for pollock and Pacific cod are intensive, fast-paced fisheries. Other fisheries, such as those for flatfish, rockfish, skates, sculpins, sharks, and octopuses, are critical as directed fisheries and as incidental catch in other fisheries. U.S. fishing vessels have demonstrated the capacity to catch the TAC allocations in these fisheries. Any delay in allocating the final TAC limits in these fisheries would cause confusion in the industry and potential economic harm through unnecessary discards. Determining which fisheries may close is impossible because these fisheries are affected by several factors that cannot be predicted in advance, including fishing effort, weather, movement of fishery stocks, and market price. Furthermore, the closure of one fishery has a cascading effect on other fisheries by freeing up fishing vessels, allowing them to move from closed fisheries to open ones, increasing the fishing capacity in those open fisheries and causing them to close at an accelerated pace.

Additionally, in fisheries subject to declining sideboards, delaying this rule's effectiveness could allow some vessels to inadvertently reach or exceed their new sideboard levels. Because sideboards are intended to protect traditional fisheries in other sectors, allowing one sector to exceed its new sideboards by delaying this rule's effectiveness would effectively reduce the available catch for sectors without sideboard limits. Moreover, the new TAC and sideboard limits protect the fisheries from being overfished. Thus, the delay is contrary to the public interest in protecting traditional fisheries and fish stocks.

If the final harvest specifications are not effective by March 14, 2015, which is the start of the 2015 Pacific halibut season as specified by the IPHC, the hook-and-line sablefish fishery will not begin concurrently with the Pacific halibut IFQ season. Delayed effectiveness of this action would result in confusion for sablefish harvesters and economic harm from unnecessary discard of sablefish that are caught along with Pacific halibut, as both hook-and-line sablefish and Pacific halibut are managed under the same IFQ program. Immediate effectiveness of the final 2015 and 2016 harvest specifications will allow the sablefish IFQ fishery to begin concurrently with the Pacific halibut IFQ season. Also, immediate effectiveness of this action is required to provide consistent management and conservation of fishery resources based on the best available scientific information. This is particularly true of those species that have lower 2015 ABC and TAC limits than those established in the 2014 and 2015 harvest specifications (79 FR 12108, March 4, 2014). Immediate effectiveness also would give the fishing industry the earliest possible opportunity to plan and conduct its fishing operations with respect to new information about TAC limits. Therefore, NMFS finds good cause to waive the 30-day delay in effectiveness under 5 U.S.C. 553(d)(3).

Small Entity Compliance Guide

This final rule is a plain language guide to assist small entities in complying with this final rule as required by the Small Business Regulatory Enforcement Fairness Act of 1996. This final rule's primary purpose is to announce the final 2015 and 2016 harvest specifications and prohibited species bycatch allowances for the groundfish fisheries of the BSAI. This action is necessary to establish harvest limits and associated management measures for groundfish during the 2015 and 2016 fishing years and to accomplish the goals and objectives of the FMP. This action directly affects all fishermen who participate in the BSAI fisheries. The specific amounts of OFL, ABC, TAC, and PSC are provided in tables to assist the reader. NMFS will announce closures of directed fishing in the Federal Register and information bulletins released by the Alaska Region. Affected fishermen should keep themselves informed of such closures.

Authority: 16 U.S.C. 773 et seq.; 16 U.S.C. 1540(f); 16 U.S.C. 1801 et seq.; 16 U.S.C. 3631 et seq.; Pub. L. 105-277; Pub. L. 106-31; Pub. L. 106-554; Pub. L. 108-199; Pub. L. 108-447; Pub. L. 109-241; Pub. L. 109-479.

Dated: February 27, 2015.
Samuel D. Rauch III,
Deputy Assistant Administrator for Regulatory Programs, National Marine Fisheries Service.

[FR Doc. 2015-05041 Filed 3-4-15; 08:45 am]

BILLING CODE 3510-22-P